DEPARTMENT OF HOUSING AND URBAN DEVELOPMENT

[Docket No. FR-6325-N-04]

Notice of Regulatory Waiver Requests Granted for the Fourth Quarter of Calendar Year 2022

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2022 and ending on December 31, 2022.

FOR FURTHER INFORMATION CONTACT: For general information about this notice, contact Aaron Santa Anna, Associate General Counsel for Legislation and Regulations, Department of Housing and Urban Development, 451 Seventh Street SW, Room 10276, Washington, DC 20410-0500, telephone 202-708-3055 (this is not a toll-free number).

HUD welcomes and is prepared to receive calls from individuals who are deaf or hard of hearing, as well as individuals with speech or communication disabilities. To learn more about how to make an accessible telephone call, please visit https://www.fcc.gov/consumers/guides/telecommunications-relay-service-trs.

For information concerning a particular waiver that was granted and for which public notice is provided in this document, contact the person whose name and address follow the description of the waiver granted in the accompanying list of waivers that have been granted in the fourth quarter of calendar year 2022.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2022 through December 31, 2022. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Additionally, this notice includes waivers made pursuant to the Coronavirus Aid, Relief and Economic Security Act (CARES Act), not previously published in the Federal Register. These waivers are listed separately from other individual waivers within each program office grouping, as CARES Act waivers broadly covered all affected parties rather than individual, case-by-case situations. The lists include additional Memoranda and Notices issued regarding broad CARES Act waivers provided by HUD since the enactment of the Act on March 27, 2020. In addition, the lists provide a short, two- or three-line description of each memo or notice, identifying the specific CARES Act authority and purpose of the waivers addressed therein.

Should HUD receive additional information about waivers granted during the period covered by this report (the fourth quarter of calendar year 2022) before the next report is published (the first quarter of calendar year 2023), HUD will include any additional waivers granted for the fourth quarter in the next report.

Accordingly, information about approved waiver requests pertaining to HUD regulations is provided in the Appendix that follows this notice.

Damon Y. Smith,
General Counsel.

Appendix

Listing of Waivers of Regulatory Requirements Granted by Offices of the Department of Housing and Urban Development October 1, 2022 Through December 31, 2022

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers and Alternative Requirements Granted by the Office of Community Planning and Development

For further information about the following regulatory waivers, please see the name of the contact person that immediately follows the description of the waiver granted.

• Regulation: 24 CFR 58.22(a) Limitation on Activities Pending Clearance.

Project/Activity: Homekey Project—Salinas, California—Section 8 Project-based Vouchers.

Nature of Requirement: Pursuant to 24 CFR 58.22(a) “until the RROF and the related certification have been approved, neither a recipient nor any participant in the development process may commit non-HUD funds on or undertake an activity . . . if the activity or project would have an adverse environmental impact or limit the choice of reasonable alternatives.”

Granted By: Marion McFadden, Principal Deputy Assistant Secretary for Community Planning and Development.

Date Granted: December 19, 2022.

Reason Waived: HUD may approve a Request for a Waiver of Part 58 when a regulatory violation has occurred, if there is good cause to grant the waiver and no unmitigated adverse environmental impacts will result. HUD has reviewed the Environmental Assessment submitted by the City of Salinas and the City asserts the regulatory violation was unintentional, has committed to receiving training and technical assistance, and the purpose of the project to provide housing and supportive services to the homeless furthers HUD program goals.

Contact: Kristin L. Fontenot, Director, Office of Environment and Energy, Community Planning and Development, Department of Housing and Urban Development, 451 Seventh Street SW, Room 7282, Washington, DC 20410, telephone (202) 655-1412.

• Alternative Requirement: Alternative requirement modifying section 105(a) of the Housing and Community Development Act of 1974 published at section III.G.3 of the CDBG-DR Consolidated Notice published in the Federal Register on February 3, 2022 at 87 FR 6364 (the “February 2022 Notice”) and May 24, 2022 at 87 FR 31636 (the “May 2022 Notice”).

Project/Activity: Assistance to private for-profit, non-profit, or publicly owned utilities as part of disaster-related activities that are eligible under section 105(a) of the Housing and Community Development Act of 1974 and assisted with Community Development Block Grant disaster recovery (CDBG-DR) grants made in response to 2020 and 2021 disasters that are subject to the February 2022 Notice and the May 2022 Notice.

Nature of Requirement: In October 2021, HUD allocated $2,051,217,000 in CDBG-DR funds made available by Public Law 117-43 (the “Appropriations Act”) to assist disaster-related needs from disasters occurring in 2020. On February 3, 2022, HUD published a Federal Register notice governing the use of those funds (87 FR 6364). In March 2022, HUD allocated an additional $722,688,000 in CDBG-DR funds from the Appropriations Act for disasters occurring in 2020 and $2,213,595,000 in CDBG-DR funds from the Appropriations Act for disasters occurring in 2021. On May 24, 2022, HUD published a Federal Register notice governing the use of those funds.

Both Federal Register notices included HUD's CDBG-DR “Consolidated Notice” as Appendix B and made the Consolidated Notice applicable to the grants announced in those notices. Paragraph III.G.3. of the Consolidated Notice imposes the following alternative requirement: “Prohibiting assistance to private utilities. HUD is adopting the following alternative requirement to section 105(a) and prohibiting the use of CDBG-DR funds to assist a privately-owned utility for any purpose.”

Granted By: Adrianne Todman, Deputy Secretary Housing and Urban Development.

Date Granted: December 12, 2022.

Reason Modified: The Continuing Appropriation Act, 2023 (Pub. L. 117-180), approved on September 30, 2022, appropriated an additional $2,000,000,000 for 2021 and 2022 disasters. The funds under Public Law 117-180 are available “for the same purposes and under the same terms and conditions” as funds appropriated under Public Law 117-43 with a few exceptions. One of the exceptions is that amounts made under Public Law 117-180 and 117-43 “may be used by a grantee to assist utilities as part of a disaster-related eligible activity under section 105(a) of the Housing and Community Development Act of 1974 (42 U.S.C. 5305(a)).”

To comply with this new provision governing assistance to utilities, HUD made Section III.G.3 of the CDBG-DR Consolidated Notice inapplicable for disasters occurring in 2020 and 2021, and instead imposed a replacement alternative requirement that was added as paragraph IV.A.4. within the February 2022 Notice and the May 2022 Notice. While it is possible that not every CDBG-DR assisted utility will serve predominantly low-and moderate-income (LMI) populations, HUD recognizes that LMI populations would benefit especially from the increased resilience and recovery of private utilities. HUD also recognizes that privately-owned, for-profit utilities have a means of obtaining private investment or otherwise recapturing costs from ratepayers. Therefore, HUD's replacement alternative requirement includes basic safeguards that HUD has determined are necessary to ensure that costs comply with the certification CDBG-DR grantee must make to give maximum feasible priority to activities that benefit LMI persons and that costs are necessary and reasonable and do not duplicate other financial assistance.

Specifically, the funded activity must comply with all requirements that apply to the use of grant funds. Additionally, grantees carrying out activities that assist private, for-profit utilities must priorities assistance to for-profit utilities that will benefit areas where at least 51 percent of the residents are low- and moderate-income persons and demonstrate how the assistance will benefit those areas. Additionally, the grantee must document that the level of assistance provided to a private, for-profit utility addresses only the actual identified needs of the utility, and establish policies and procedures that establish a mix of financing terms (loan, forgivable loan, and/or grant) for each assisted private, for-profit utility, based on the business's financial capacity. The modified alternative requirement also makes clear that assistance to utilities is subject to all other requirements that apply to the use of funds, consistent with the requirement in Public Law 117-180 that funds must be for an “eligible activity under section 105(a).”

Applicability: The replacement alternative requirement added by the December 12, 2022 alternative requirement as a new paragraph IV.A.4. within the February 2022 Notice and the May 2022 Notice is applicable to all CDBG-DR funds appropriated for major disasters occurring in 2020 and 2021 under Public Law 117-43.

Contact: Tennille S. Parker, Director, Office of Disaster Recovery, Office of Community Planning and Development, Department of Housing and Urban Development, 451 Seventh Street SW, Room 7282, Washington, DC 20410, telephone (202) 708-3587.

• Regulation: 24 CFR 91.105(c)(2) and (k); 24 CFR 91.115 (c)(2), and (i); and 24 CFR 91.401.

Project/Activity: The Commonwealth of Puerto Rico and any HUD Community Planning and Development (CPD) grantee located in the county equivalents (municipios) included in the declared-disaster area (see DR-4671-PR) seeking to expedite action in response to Hurricane Fiona, upon notification to the Community Planning and Development Director in its respective HUD Field Office. This authority is in effect for grantees in the areas covered by the major disaster declaration under Title IV of the Robert T. Stafford Disaster Relief and Emergency Assistance Act (Stafford Act), DR-4671-PR, dated September 21, 2022, as may be amended (the “Hurricane Fiona declared-disaster areas”) and is limited to facilitating preparation of substantial amendments to FY 2022 and prior year plans.

Nature of Requirement: The regulations at 24 CFR 91.105(c)(2) and (k); 24 CFR 91.115(c)(2) and (i); and 24 CFR 91.401 require a 30-day public comment period in the development of a consolidated plan and prior to the implementation of a substantial amendment.

Granted By: Marion McFadden, Principal Deputy Assistant Secretary for Community Planning and Development.

Date Granted: September 27, 2022 and amended December 8, 2022.

Reason Waived: Several CPD grantees were affected by Hurricane Fiona that hit Puerto Rico on September 17, 2022. As a result of substantial property loss and destruction, many individuals and families residing in the Hurricane Fiona declared-disaster areas were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Community Planning and Development, Department of Housing and Urban Development, 451 Seventh Street SW, Room 7282, Washington, DC 20410, telephone (202) 402-4211.

• Regulation: 24 CFR 91.105(c)(2) and (k); 24 CFR 91.115(c)(2) and (i); and 24 CFR 91.401.

Project/Activity: The Commonwealth of Puerto Rico and any HUD Community Planning and Development (CPD) grantee located in the county equivalents (municipios) included in the Hurricane Fiona declared-disaster areas (see DR-4671-PR) seeking to expedite action in response to Hurricane Fiona, upon notification to the Community Planning and Development Director in its respective HUD Field Office. This authority is in effect for grantees within the Hurricane Fiona declared-disaster areas and is limited to facilitating preparation of substantial amendments to FY 2022 and prior year plans.

Nature of Requirement: The regulations at 24 CFR 91.105(c)(2) and (k); 24 CFR 91.115(c)(2) and (i); and 24 CFR 91.401 require the grantee to follow its citizen participation plan to provide citizens with reasonable notice and opportunity to comment. The citizen participation plan must state how reasonable notice and opportunity to comment will be given.

Granted By: Marion McFadden, Principal Deputy Assistant Secretary for Community Planning and Development.

Date Granted: September 27, 2022 and amended December 8, 2022.

Reason Waived: As stated above, several CPD grantees were affected by Hurricane Fiona that hit Puerto Rico on September 17, 2022. As a result of substantial property loss and destruction, many individuals and families residing in the Hurricane Fiona declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with Hurricane Fiona.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: September 27, 2022 and amended December 8, 2022.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with Hurricane Fiona. The waiver will allow CDBG grantees, including grantees providing assistance to evacuees outside the Hurricane Fiona declared-disaster areas, to pay for the basic daily needs of individuals and families affected by the hurricane on an interim basis. This authority is in effect through the end of the grantee's 2023 program year. This waiver aligns with waivers currently in effect for CDBG coronavirus (CDBG-CV) grants. The six-month periods allowed by waiver for CDBG and CDBG-CV shall not be used consecutively for the same beneficiary.

Contact: Robert C. Peterson, Director, State and Small Cities Division, Community Planning and Development, Department of Housing and Urban Development, 451 Seventh Street SW, Room 7282, Washington, DC 20410, telephone (202) 402-4211.

• Regulation: 24 CFR 91.105(c)(2) and (k); 24 CFR 91.115 (c)(2), and (i); and 24 CFR 91.401.

Project/Activity: The State of Florida and any HUD Community Planning and Development (CPD) grantee located in the counties included in the declared-disaster area (see DR-4673-FL) seeking to expedite action in response to Hurricane Ian, upon notification to the Community Planning and Development Director in its respective HUD Field Office. This authority is in effect for grantees in the areas covered by the major disaster declaration under title IV of the Robert T. Stafford Disaster Relief and Emergency Assistance Act (Stafford Act), DR-4673-FL, dated September 29, 2022, as may be amended (the “Hurricane Ian declared-disaster areas”) and is limited to facilitating preparation of substantial amendments to FY 2022 and prior year plans.

Nature of Requirement: The regulations at 24 CFR 91.105(c)(2) and (k); 24 CFR 91.115(c)(2) and (i); and 24 CFR 91.401 require a 30-day public comment period in the development of a consolidated plan and prior to the implementation of a substantial amendment.

Granted By: Marion McFadden, Principal Deputy Assistant Secretary for Community Planning and Development.

Date Granted: October 3, 2022 and amended December 8, 2022.

Reason Waived: Several CPD grantees were affected by Hurricane Ian that hit Florida on September 23, 2022. As a result of substantial property loss and destruction, many individuals and families residing in the Hurricane Ian declared-disaster areas were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Office of Community Planning and Development, Department of Housing and Urban Development, 451 Seventh Street SW, Room 7282, Washington, DC 20410, telephone (202) 402-4211.

• Regulation: 24 CFR 91.105(c)(2) and (k); 24 CFR 91.115(c)(2) and (i); and 24 CFR 91.401.

Project/Activity: The State of Florida and any HUD Community Planning and Development (CPD) grantee located in the counties included in the Hurricane Ian declared-disaster areas (see DR-4673-FL) seeking to expedite action in response to Hurricane Ian, upon notification to the Community Planning and Development Director in its respective HUD Field Office. This authority is in effect for grantees within the Hurricane Ian declared-disaster areas and is limited to facilitating preparation of substantial amendments to FY 2022 and prior year plans.

Nature of Requirement: The regulations at 24 CFR 91.105(c)(2) and (k); 24 CFR 91.115(c)(2) and (i); and 24 CFR 91.401 require the grantee to follow its citizen participation plan to provide citizens with reasonable notice and opportunity to comment. The citizen participation plan must state how reasonable notice and opportunity to comment will be given.

Granted By: Marion McFadden, Principal Deputy Assistant Secretary for Community Planning and Development.

Date Granted: October 3, 2022 and amended December 8, 2022.

Reason Waived: As stated above, several CPD grantees were affected by Hurricane Ian that hit Florida on September 23, 2022. As a result of substantial property loss and destruction, many individuals and families residing in the Hurricane Ian declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Office of Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with Hurricane Ian.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: October 3, 2022 and amended December 8, 2022.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with Hurricane Ian. The waiver will allow CDBG grantees, including grantees providing assistance to evacuees outside the Hurricane Ian declared-disaster areas, to pay for the basic daily needs of individuals and families affected by the hurricane on an interim basis. This authority is in effect through the end of the grantee's 2023 program year. This waiver aligns with waivers currently in effect for CDBG coronavirus (CDBG-CV) grants. The six-month periods allowed by waiver for CDBG and CDBG-CV shall not be used consecutively for the same beneficiary.

Contact: Robert C. Peterson, Director, State and Small Cities Division, Office of Community Planning and Development, Department of Housing and Urban Development, 451 Seventh Street SW, Room 7282, Washington, DC 20410, telephone (202) 402-4211.

• Regulation: 24 CFR 574.310(b)(2)(iii), Space and Security.

Project/Activity: State of Indiana; City of Houston, TX; State of Rhode Island; City of Cleveland, OH.

Nature of Requirement: This section of the HOPWA regulations provides that each resident must be afforded adequate space and security for themselves and their belongings.

Granted By: Jemine A. Bryon, Acting General Deputy Assistant Secretary for Community Planning and Development.

Date Granted: October 1, 2022-December 31, 2022.

Reason Waived: In 2020, CPD began issuing waivers of regulatory authority available on a nationwide basis with a simplified opt-in process to help recipients prevent and mitigate the spread of COVID-19. Between March 31, 2020, and December 30, 2021, CPD published several memoranda announcing nationwide availability of regulatory waivers. Under Notice CPD-22-09, issued on June 15, 2022, HOPWA grantees were provided the opportunity to apply for certain regulatory waivers to provide continued flexibility during the COVID-19 pandemic and pandemic recovery.

Notice CPD-22-09 provided expedited processing of requests to waive 24 CFR 574.310(b)(2)(iii), so that grantees and project sponsors operating housing facilities and shared housing arrangements can place more than two people in a room or reconfigure rooms, common areas and other appropriate spaces for temporary quarantine services of eligible individuals and families affected by COVID-19. Notice CPD-22-09 required grantees to justify in the waiver request why the grantee or project sponsor cannot provide adequate space and security in accordance with the standard provided at 24 CFR 574.310(b)(2)(iii). The waiver request must also specify the period during which the grantee needs to use this waiver and that effective period must not extend beyond March 31, 2023.

Contact: Amy Palilonis, Office of HIV/AIDS Housing, Office of Community Planning and Development, Department of Housing and Urban Development, 451 Seventh Street SW, Room 7248, Washington, DC 20410, telephone (202) 402-5916, amy.l.palilonis@hud.gov.

• Regulation: 24 CFR 574.330(a)(1), Time Limits for Short-Term Housing Facilities and Short-Term Rent, Mortgage, and Utility Payments.

Project/Activity: State of Indiana; City of Seattle, WA; City of San Juan, PR; City of Oklahoma City, OK; City of Houston, TX; State of Rhode Island; City of Indianapolis, IN; City of Cleveland, OH.

Nature of Requirement: This section of the HOPWA regulations limits the total amount of time an eligible individual or family can reside in a short-term supported housing facility to no more than 60 days during any six-month period. It also limits the Short-Term Rent, Mortgage, and Utility (STRMU) payments to prevent the homelessness of the tenant or mortgagor of a dwelling to no more than 21 weeks in any 52-week period.

Reason Waived: In 2020, CPD began issuing waivers of regulatory authority available on a nationwide basis with a simplified opt-in process to help recipients prevent and mitigate the spread of COVID-19. Between March 31, 2020, and December 30, 2021, CPD published several memoranda announcing nationwide availability of regulatory waivers. Under Notice CPD-22-09, issued on June 15, 2022, HOPWA grantees were provided the opportunity to apply for certain regulatory waivers to provide continued flexibility during the COVID-19 pandemic and pandemic recovery.

Notice CPD-22-09 provided expedited processing of grantee requests to waive the 21-week and 60-day limitations in 24 CFR 574.330(a)(1). In utilizing the waiver, the grantee or project sponsor must document, on an individual household basis, that a good faith effort has been made to assist the household to achieve housing stability within the time limits specified in the regulations, but that financial needs or health and safety concerns have prevented the household from doing so. The grantee or project sponsor must also have written policies and procedures outlining efforts to regularly re-assess the needs of assisted households, as well as processes for granting extensions based on documented financial needs or health and safety concerns. The waiver request must specify the alternative limits to be used in place of the 21-week and 60-day limit as applicable, and those limits must not exceed 52 weeks and 120 days, respectively and specify the period during which the grantee needs to use this waiver and that effective period must not extend beyond March 31, 2023.

Granted By: Jemine A. Bryon, Deputy Assistant Secretary for Special Needs.

Date Granted: October 1, 2022-December 31, 2022.

Contact: Amy Palilonis, Office of HIV/AIDS Housing, Office of Community Planning and Development, Department of Housing and Urban Development, 451 Seventh Street SW, Room 7248, Washington, DC 20410, telephone (202) 402-5916, amy.l.palilonis@hud.gov.

• Regulation: 24 CFR 574.530, Self-Certification of Income and Credible Information on HIV Status.

Project/Activity: AIDS Foundation of Chicago; State of Indiana; City of Seattle, WA; City of San Juan, PR; City of Oklahoma City, OK; City of Houston, TX; State of Rhode Island; City of Indianapolis, IN; State of Montana; City of Cleveland, OH.

Nature of Requirement: HOPWA grantees and project sponsors must maintain records to document compliance with HOPWA requirements, which includes determining the eligibility of a family to receive HOPWA assistance.

Reason Waived: In 2020, CPD began issuing waivers of regulatory authority available on a nationwide basis with a simplified opt-in process to help recipients prevent and mitigate the spread of COVID-19. Between March 31, 2020, and December 30, 2021, CPD published several memoranda announcing nationwide availability of regulatory waivers. Under Notice CPD-22-09, issued on June 15, 2022, HOPWA grantees were provided the opportunity to apply for certain regulatory waivers to provide continued flexibility during the COVID-19 pandemic and pandemic recovery.

Notice CPD-22-09 provided expedited processing of requests to waive the requirement at 24 CFR 574.530 to have source documentation of HIV status at the time of the determination of eligibility. In utilizing the waiver, grantees and project sponsors may accept written certification of HIV status and income to document eligibility of an individual or family seeking assistance if the grantee or project sponsor agrees to obtain source documentation of HIV status and income eligibility within 90 days of obtaining the written certification. Grantees and project sponsors must provide justification as to why source documentation cannot be acquired at the time of the eligibility determination. The waiver request must specify the period during which the grantee needs to use this waiver and that effective period must not extend beyond March 31, 2023.

Granted By: Jemine A. Bryon, Acting General Deputy Assistant Secretary for Community Planning and Development and Claudette Fernandez General Deputy Assistant Secretary for Community Planning and Development.

Date Granted: October 1, 2022-December 31, 2022.

Contact: Amy Palilonis, Office of HIV/AIDS Housing, Office of Community Planning and Development, Department of Housing and Urban Development, 451 Seventh Street SW, Room 7248, Washington, DC 20410, telephone (202) 402-5916. amy.l.palilonis@hud.gov.

Mega-Waiver for Hurricane Ian—Housing Opportunities for Persons Withs AIDS (HOPWA) Program

On October 3, 2022, HUD issued a memorandum offering waivers of certain statutory and regulatory requirements associated with several Community Planning and Development (CPD) grant programs to address damage and facilitate recovery from Hurricane Ian in areas covered by a major disaster declaration under Title IV of the Robert T. Stafford Disaster Relief and Emergency Assistance Act (Stafford Act), DR-4673-FL, dated September 29, 2022, as may be amended (the “declared-disaster areas”). The October 3, 2022, memorandum was updated on December 8, 2022, to clarify the documentation requirements to support the use of some waivers to assist impacted individuals and provide greater clarity on the use of some waivers outside of the declared disaster area. The following summarizes the waivers available for HOPWA grantees.

• Regulation: 24 CFR 574.310(b)(2), Housing Quality Standards.

Project/Activity: The property standard requirements in 24 CFR 574.310(b)(2) are waived for units in the declared-disaster areas that are or will be occupied by HOPWA eligible households, provided that the units are free of life-threatening conditions as defined in Notice PIH 2017-20 (HA). Grantees must ensure that these units meet HOPWA housing quality standards within 60 days of October 3, 2022.

Nature of Requirement: Section 574.310(b)(2) of the HOPWA regulations provides minimum housing quality standards that apply to all housing for which HOPWA funds are used for acquisition, rehabilitation, conversion, lease, or repair; new construction of single room occupancy dwellings and community residences; project or tenant-based rental assistance; or operating costs under 24 CFR 574.300(b)(3), (4), (5), or (8).

Granted By: Marion McFadden, Principal Deputy Assistant Secretary for Community Planning and Development.

Date Granted: October 3, 2022.

Reason Waived: This waiver is required to enable grantees and project sponsors to expeditiously meet the critical housing needs of the many eligible families in the declared disaster areas.

Contact: Amy Palilonis, Office of HIV/AIDS Housing, Office of Community Planning and Development, Department of Housing and Urban Development, 451 Seventh Street SW, Room 7248, Washington, DC 20410, telephone (202) 402-5916, amy.l.palilonis@hud.gov.

• Regulation: 24 CFR 574.320(a)(2), Rent Standard.

Project/Activity: The rent standard requirement is waived for any rent amount that takes effect during the two-year period beginning on October 3, 2022, for any individual or family who is renting or executes a lease for a unit in the declared disaster areas. This waiver would apply for twelve months from the date of the execution of the lease under the waived rent standard requirement. Grantees and project sponsors must still ensure the reasonableness of rent charged for units in the declared-disaster areas in accordance with 574.320(a)(3).

Nature of Requirement: Grantees must establish rent standards for their rental assistance programs based on FMR (Fair Market Rent) or the HUD-approved community-wide exception rent for unit size.

Granted By: Marion McFadden, Principal Deputy Assistant Secretary for Community Planning and Development.

Date Granted: October 3, 2022.

Reason Waived: This waiver is required to enable HOPWA grantees to expedite efforts to meet the critical housing needs of low-income people living with HIV and their families in the declared-disaster areas. Under the programmatic requirements at 24 CFR 574.320(a)(2), the rent standard shall be no more than the published section 8 fair market rent (FMR) or the HUD-approved community-wide exception for the unit size. In addition, on a unit-by-unit basis, the grantee may increase that amount by up to 10 percent for up to 20 percent of the units assisted. Notice CPD-22-10 Clarification of Rent Standard Requirement for the Housing Opportunities for Persons With AIDS (HOPWA) Program provides additional clarity and flexibility on how HOPWA grantees can administer the rent standard in accordance with 24 CFR 574.320(a)(2) and the Regulatory and Administrative Requirement Waivers and Flexibilities Available to HUD Public Housing and Section 8 During CY 2022 and CY 2023 to Public Housing Agencies To Assist With Recovery and Relief Efforts on Behalf of Families Affected by Presidentially Declared Disasters, 87 FR 469 (Section 8 Disaster Notice) provides additional rent standard flexibility in presidentially declared disaster areas.

Due to the extensive damage to housing units in the declared disaster area and the need to ensure safe and decent units are immediately available to eligible households to prevent homelessness and protect the health of the people with HIV served under the program, HUD has determined that it is not practicable for grantees to be held to the rent standards in 24 CFR 574.320(a)(2) even with the additional flexibilities under Notice CPD-22-10 and the Section 8 Disaster Notice. Waiving the rent standard requirement, while still requiring that the unit be rent reasonable in accordance with § 574.320(a)(3), will make more units immediately available to HOPWA eligible individuals and families in need of permanent housing in the declared-disaster areas and will help to quickly stabilize their housing and health.

Contact: Amy Palilonis, Office of HIV/AIDS Housing, Office of Community Planning and Development, Department of Housing and Urban Development, 451 Seventh Street SW, Room 7248, Washington, DC 20410, telephone (202) 402-5916, amy.l.palilonis@hud.gov.

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of October 3, 2022.

Nature of Requirement: Each grantee must maintain records to document compliance with HOPWA requirements, which includes determining the eligibility of a family to receive HOPWA assistance.

Granted By: Marion McFadden, Principal Deputy Assistant Secretary for Community Planning and Development.

Date Granted: October 3, 2022.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Amy Palilonis, Office of HIV/AIDS Housing, Office of Community Planning and Development, Department of Housing and Urban Development, 451 Seventh Street SW, Room 7248, Washington, DC 20410, telephone (202) 402-5916, amy.l.palilonis@hud.gov.

Mega-Waiver for Hurricane Fiona—Housing Opportunities for Persons Withs AIDS (HOPWA) Program

On December 8, 2022, HUD issued an updated memorandum offering waivers of certain statutory and regulatory requirements associated with several Community Planning and Development (CPD) grant programs to address damage and facilitate recovery from Hurricane Fiona in areas covered by a major disaster declaration under Title IV of the Robert T. Stafford Disaster Relief and Emergency Assistance Act (Stafford Act), DR-4671-PR, dated September 21, 2022, as may be amended (the “declared-disaster areas”).

• Regulation: 24 CFR 574.310(b)(2), Housing Quality Standards.

Project/Activity: The minimum housing quality standards requirements in 24 CFR 574.310(b)(2) are waived for units in the declared-disaster areas that are or will be occupied by HOPWA-eligible households, provided that the units are free of life-threatening conditions as defined in Notice PIH 2017-20 (HA). Grantees must ensure that these units meet HOPWA housing quality standards within 60 days of the date of December 8, 2022.

Nature of Requirement: Section 574.310(b)(2) of the HOPWA regulations provides minimum housing quality standards that apply to all housing for which HOPWA funds are used for acquisition, rehabilitation, conversion, lease, or repair; new construction of single room occupancy dwellings and community residences; project or tenant-based rental assistance; or operating costs under 24 CFR 574.300(b)(3), (4), (5), or (8).

Granted By: Marion McFadden, Principal Deputy Assistant Secretary for Community Planning and Development.

Date Granted: September 27, 2022 and amended December 8, 2022.

Reason Waived: This waiver is required to enable grantees and project sponsors to expeditiously meet the critical housing needs of the many eligible families in the declared disaster areas.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.320(a)(2), Rent Standard.

Project/Activity: The rent standard requirement is waived for any rent amount that takes effect during the two-year period beginning on December 8, 2022, for any individual or family who is renting or executes a lease for a unit in the declared disaster areas. This waiver would apply for twelve months from the date of the execution of the lease under the waived rent standard requirement. Grantees and project sponsors must still ensure the reasonableness of rent charged for units in the declared-disaster areas in accordance with 574.320(a)(3).

Nature of Requirement: Grantees must establish rent standards for their rental assistance programs based on FMR (Fair Market Rent) or the HUD-approved community-wide exception rent for unit size.

Granted By: Marion McFadden, Principal Deputy Assistant Secretary for Community Planning and Development.

Date Granted: September 27, 2022 and amended December 8, 2022.

Reason Waived: This waiver is required to enable HOPWA grantees to expedite efforts to meet the critical housing needs of low-income people living with HIV and their families in the declared-disaster areas.

Under the programmatic requirements at 24 CFR 574.320(a)(2), the rent standard shall be no more than the published section 8 fair market rent (FMR) or the HUD-approved community-wide exception for the unit size. In addition, on a unit-by-unit basis, the grantee may increase that amount by up to 10 percent for up to 20 percent of the units assisted. Notice CPD-22-10 Clarification of Rent Standard Requirement for the Housing Opportunities for Persons With AIDS (HOPWA) Program provides additional clarity and flexibility on how HOPWA grantees can administer the rent standard in accordance with 24 CFR 574.320(a)(2) and the Regulatory and Administrative Requirement Waivers and Flexibilities Available to HUD Public Housing and Section 8 During CY 2022 and CY 2023 to Public 16 Housing Agencies To Assist With Recovery and Relief Efforts on Behalf of Families Affected by Presidentially Declared Disasters, 87 FR 469 (Section 8 Disaster Notice) provides additional rent standard flexibility in presidentially declared disaster areas. Due to the extensive damage to housing units in the declared disaster area and the need to ensure safe and decent units are immediately available to eligible households to prevent homelessness and protect the health of the people with HIV served under the program, HUD has determined that it is not practicable for grantees to be held to the rent standards in 24 CFR 574.320(a)(2) even with the additional flexibilities under Notice CPD-22-10 and the Section 8 Disaster Notice. Waiving the rent standard requirement while still requiring that the unit be rent reasonable in accordance with 574.320(a)(3), will make more units immediately available to HOPWA eligible individuals and families in need of permanent housing in the declared-disaster areas and will help to quickly stabilize their housing and health.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of December 8, 2022.

Nature of Requirement: Each grantee must maintain records to document compliance with HOPWA requirements, which includes determining the eligibility of a family to receive HOPWA assistance.

Granted By: Marion McFadden, Principal Deputy Assistant Secretary for Community Planning and Development.

Date Granted: September 27, 2022 and amended December 8, 2022.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Lisa Steinhauer, Office of HIV/AIDS Housing, Office of Community Planning and Development, Department of Housing and Urban Development, 451 Seventh Street SW, Room 7248, Washington, DC 20410, telephone (215) 861-7651, lisa.a.steinhauer@hud.gov.

Mega-Waiver for California Severe Winter Storms, Flooding, Landslides, and Mudslides—Housing Opportunities for Persons Withs AIDS (HOPWA) Program

On February 9, 2023, HUD issued a memorandum offering waivers of certain statutory and regulatory requirements associated with several Community Planning and Development (CPD) grant programs to address damage and facilitate recovery from California severe winter storms, flooding, landslides, and mudslides in areas covered by a major disaster declaration under Title IV of the Robert T. Stafford Disaster Relief and Emergency Assistance Act (Stafford Act), DR-4683-CA, dated January 14, 2023, as may be amended (the “declared-disaster areas”).

• Regulation: 24 CFR 574.310(b)(2), Habitability Standards.

Project/Activity: The habitability requirements in 24 CFR 574.310(b)(2) are waived for units in the declared-disaster areas that are or will be occupied by HOPWA-eligible households, provided that the units are free of life-threatening conditions as defined in Notice PIH 2017-20 (HA). Grantees must ensure that these units meet HOPWA habitability standards within 60 days of the date of February 9, 2023.

Nature of Requirement: Section 574.310(b)(2) of the HOPWA regulations provides minimum habitability standards that apply to all housing for which HOPWA funds are used for acquisition, rehabilitation, conversion, lease, or repair; new construction of single room occupancy dwellings and community residences; project or tenant-based rental assistance; or operating costs under 24 CFR 574.300(b)(3), (4), (5), or (8).

Granted By: Marion McFadden, Principal Deputy Assistant Secretary for Community Planning and Development.

Date Granted: February 9, 2023.

Reason Waived: This waiver is required to enable grantees and project sponsors to expeditiously meet the critical housing needs of the many eligible families in the declared disaster areas.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.320(a)(1), Maximum Subsidy.

Project/Activity: Provided that the maximum subsidy is otherwise calculated as provided by 574.320(a)(1), the requirement to use the rent standard as provided by 574.320(a)(1) is waived. This waiver applies to the calculation of rental assistance for any rent amount that takes effect during the two-year period beginning on February 9, 2023, for any individual or family who is renting or executes a lease for a unit in the declared-disaster areas. This waiver would apply for twelve months from the date of the execution of the lease. Grantees and project sponsors must still ensure the reasonableness of rent charged for units in the declared-disaster areas in accordance with 574.320(a)(3).

Nature of Requirement: The amount of grant funds used to pay monthly assistance for an eligible person may not exceed the difference between: (i) The lower of the rent standard or reasonable rent for the unit; and (ii) The resident's rent payment calculated under 574.310(d).

Granted By: Marion McFadden, Principal Deputy Assistant Secretary for Community Planning and Development.

Date Granted: February 9, 2023.

Reason Waived: Permitting the maximum rental assistance subsidy to be calculated under 24 CFR 574.320(a)(1) without regard to the rent standard would enable HOPWA grantees to expedite efforts to meet the critical housing needs of low-income people living with HIV and their families in the declared-disaster areas. Under the programmatic requirements at 24 CFR 574.320(a)(2), the rent standard shall be no more than the published section 8 fair market rent (FMR) or the HUD-approved community-wide exception for the unit size. In addition, on a unit-by-unit basis, the grantee may increase that amount by up to 10 percent for up to 20 percent of the units assisted. Notice CPD-22-10 Clarification of Rent Standard Requirement for the Housing Opportunities for Persons With AIDS (HOPWA) Program provides additional clarity and flexibility on how HOPWA grantees can administer the rent standard in accordance with 24 CFR 574.320(a)(2) and the Regulatory and Administrative Requirement Waivers and Flexibilities Available to HUD Public Housing and Section 8 During CY 2022 and CY 2023 to Public 16 Housing Agencies To Assist With Recovery and Relief Efforts on Behalf of Families Affected by Presidentially Declared Disasters, 87 FR 469 (Section 8 Disaster Notice) provides additional rent standard flexibility in presidentially declared disaster areas. Due to the extensive damage to housing units in the declared disaster area and the need to ensure safe and decent units are immediately available to eligible households to prevent homelessness and protect the health of the people with HIV served under the program, HUD has determined that it is not practicable for grantees to be held to the rent standards in 24 CFR 574.320(a)(2) even with the additional flexibilities under Notice CPD-22-10 and the Section 8 Disaster Notice. Waiving the requirement to use the rent standard in the calculation of the maximum monthly rental assistance amount under 574.320(a)(1), while still requiring that the unit be rent reasonable in accordance with 574.320(a)(3), will make more units immediately available to HOPWA eligible individuals and families in need of permanent housing in the declared-disaster areas and will help to quickly stabilize their housing and health.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of February 9, 2023.

Nature of Requirement: Each grantee must maintain records to document compliance with HOPWA requirements, which includes determining the eligibility of a family to receive HOPWA assistance.

Granted By: Marion McFadden, Principal Deputy Assistant Secretary for Community Planning and Development.

Date Granted: February 9, 2023.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Lisa Steinhauer, Office of HIV/AIDS Housing, Office of Community Planning and Development, Department of Housing and Urban Development, 451 Seventh Street SW, Room 7248, Washington, DC 20410, telephone (215) 861-7651, lisa.a.steinhauer@hud.gov.

Mega-Waiver for Alabama Severe Storms, Straight-Line Winds, and Tornadoes—Housing Opportunities for Persons Withs AIDS (HOPWA) Program

On February 9, 2023, HUD issued a memorandum offering waivers of certain statutory and regulatory requirements associated with several Community Planning and Development (CPD) grant programs to address damage and facilitate recovery from California severe winter storms, flooding, landslides, and mudslides in areas covered by a major disaster declaration under Title IV of the Robert T. Stafford Disaster Relief and Emergency Assistance Act (Stafford Act), DR-4684-AL, dated January 15, 2023, as may be amended (the “declared-disaster areas”).

• Regulation: 24 CFR 574.310(b)(2), Habitability Standards.

Project/Activity: The habitability requirements in 24 CFR 574.310(b)(2) are waived for units in the declared-disaster areas that are or will be occupied by HOPWA-eligible households, provided that the units are free of life-threatening conditions as defined in Notice PIH 2017-20 (HA). Grantees must ensure that these units meet HOPWA habitability standards within 60 days of the date of February 9, 2023.

Nature of Requirement: Section 574.310(b)(2) of the HOPWA regulations provides minimum habitability standards that apply to all housing for which HOPWA funds are used for acquisition, rehabilitation, conversion, lease, or repair; new construction of single room occupancy dwellings and community residences; project or tenant-based rental assistance; or operating costs under 24 CFR 574.300(b)(3), (4), (5), or (8).

Granted By: Marion McFadden, Principal Deputy Assistant Secretary for Community Planning and Development.

Date Granted: February 9, 2023.

Reason Waived: This waiver is required to enable grantees and project sponsors to expeditiously meet the critical housing needs of the many eligible families in the declared disaster areas.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.320(a)(1), Maximum Subsidy.

Project/Activity: Provided that the maximum subsidy is otherwise calculated as provided by 574.320(a)(1), the requirement to use the rent standard as provided by 574.320(a)(1) is waived. This waiver applies to the calculation of rental assistance for any rent amount that takes effect during the two-year period beginning on February 9, 2023, for any individual or family who is renting or executes a lease for a unit in the declared-disaster areas. This waiver would apply for twelve months from the date of the execution of the lease. Grantees and project sponsors must still ensure the reasonableness of rent charged for units in the declared-disaster areas in accordance with 574.320(a)(3).

Nature of Requirement: The amount of grant funds used to pay monthly assistance for an eligible person may not exceed the difference between: (i) The lower of the rent standard or reasonable rent for the unit; and (ii) The resident's rent payment calculated under 574.310(d).

Granted By: Marion McFadden, Principal Deputy Assistant Secretary for Community Planning and Development.

Date Granted: February 9, 2023.

Reason Waived: Permitting the maximum rental assistance subsidy to be calculated under 24 CFR 574.320(a)(1) without regard to the rent standard would enable HOPWA grantees to expedite efforts to meet the critical housing needs of low-income people living with HIV and their families in the declared-disaster areas. Under the programmatic requirements at 24 CFR 574.320(a)(2), the rent standard shall be no more than the published section 8 fair market rent (FMR) or the HUD-approved community-wide exception for the unit size. In addition, on a unit-by-unit basis, the grantee may increase that amount by up to 10 percent for up to 20 percent of the units assisted. Notice CPD-22-10 Clarification of Rent Standard Requirement for the Housing Opportunities for Persons With AIDS (HOPWA) Program provides additional clarity and flexibility on how HOPWA grantees can administer the rent standard in accordance with 24 CFR 574.320(a)(2) and the Regulatory and Administrative Requirement Waivers and Flexibilities Available to HUD Public Housing and Section 8 During CY 2022 and CY 2023 to Public 16 Housing Agencies To Assist With Recovery and Relief Efforts on Behalf of Families Affected by Presidentially Declared Disasters, 87 FR 469 (Section 8 Disaster Notice) provides additional rent standard flexibility in presidentially declared disaster areas. Due to the extensive damage to housing units in the declared disaster area and the need to ensure safe and decent units are immediately available to eligible households to prevent homelessness and protect the health of the people with HIV served under the program, HUD has determined that it is not practicable for grantees to be held to the rent standards in 24 CFR 574.320(a)(2) even with the additional flexibilities under Notice CPD-22-10 and the Section 8 Disaster Notice. Waiving the requirement to use the rent standard in the calculation of the maximum monthly rental assistance amount under 574.320(a)(1), while still requiring that the unit be rent reasonable in accordance with 574.320(a)(3), will make more units immediately available to HOPWA eligible individuals and families in need of permanent housing in the declared-disaster areas and will help to quickly stabilize their housing and health.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of February 9, 2023.

Nature of Requirement: Each grantee must maintain records to document compliance with HOPWA requirements, which includes determining the eligibility of a family to receive HOPWA assistance.

Granted By: Marion McFadden, Principal Deputy Assistant Secretary for Community Planning and Development.

Date Granted: February 9, 2023.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Lisa Steinhauer, Office of HIV/AIDS Housing, Office of Community Planning and Development, Department of Housing and Urban Development, 451 Seventh Street SW, Room 7248, Washington, DC 20410, telephone (215) 861-7651, lisa.a.steinhauer@hud.gov.

Mega-Waiver for Mississippi Severe Storms, Straight-Line Winds, and Tornadoes—Housing Opportunities for Persons Withs AIDS (HOPWA) Program

On March 30, 2023, HUD issued a memorandum offering waivers of certain statutory and regulatory requirements associated with several Community Planning and Development (CPD) grant programs to address damage and facilitate recovery from California severe winter storms, flooding, landslides, and mudslides in areas covered by a major disaster declaration under Title IV of the Robert T. Stafford Disaster Relief and Emergency Assistance Act (Stafford Act), DR-4697-MS, dated March 26, 2023, as may be amended (the “declared-disaster areas”).

• Regulation: 24 CFR 574.310(b)(2), Habitability Standards.

Project/Activity: The habitability requirements in 24 CFR 574.310(b)(2) are waived for units in the declared-disaster areas that are or will be occupied by HOPWA-eligible households, provided that the units are free of life-threatening conditions as defined in Notice PIH 2017-20 (HA). Grantees must ensure that these units meet HOPWA habitability standards within 60 days of the date of March 30, 2023.

Nature of Requirement: Section 574.310(b)(2) of the HOPWA regulations provides minimum habitability standards that apply to all housing for which HOPWA funds are used for acquisition, rehabilitation, conversion, lease, or repair; new construction of single room occupancy dwellings and community residences; project or tenant-based rental assistance; or operating costs under 24 CFR 574.300(b)(3), (4), (5), or (8).

Granted By: Marion McFadden, Principal Deputy Assistant Secretary for Community Planning and Development.

Date Granted: March 30, 2023.

Reason Waived: This waiver is required to enable grantees and project sponsors to expeditiously meet the critical housing needs of the many eligible families in the declared disaster areas.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.320(a)(1), Maximum Subsidy.

Project/Activity: Provided that the maximum subsidy is otherwise calculated as provided by § 574.320(a)(1), the requirement to use the rent standard as provided by § 574.320(a)(1) is waived. This waiver applies to the calculation of rental assistance for any rent amount that takes effect during the two-year period beginning on March 30, 2023, for any individual or family who is renting or executes a lease for a unit in the declared-disaster areas. This waiver would apply for twelve months from the date of the execution of the lease. Grantees and project sponsors must still ensure the reasonableness of rent charged for units in the declared-disaster areas in accordance with § 574.320(a)(3).

Nature of Requirement: The amount of grant funds used to pay monthly assistance for an eligible person may not exceed the difference between: (i) The lower of the rent standard or reasonable rent for the unit; and (ii) The resident's rent payment calculated under § 574.310(d).

Granted By: Marion McFadden, Principal Deputy Assistant Secretary for Community Planning and Development.

Date Granted: March 30, 2023.

Reason Waived: Permitting the maximum rental assistance subsidy to be calculated under 24 CFR 574.320(a)(1) without regard to the rent standard would enable HOPWA grantees to expedite efforts to meet the critical housing needs of low-income people living with HIV and their families in the declared-disaster areas. Under the programmatic requirements at 24 CFR 574.320(a)(2), the rent standard shall be no more than the published section 8 fair market rent (FMR) or the HUD-approved community-wide exception for the unit size. In addition, on a unit-by-unit basis, the grantee may increase that amount by up to 10 percent for up to 20 percent of the units assisted. Notice CPD-22-10 Clarification of Rent Standard Requirement for the Housing Opportunities for Persons With AIDS (HOPWA) Program provides additional clarity and flexibility on how HOPWA grantees can administer the rent standard in accordance with 24 CFR 574.320(a)(2) and the Regulatory and Administrative Requirement Waivers and Flexibilities Available to HUD Public Housing and Section 8 During CY 2022 and CY 2023 to Public 16 Housing Agencies To Assist With Recovery and Relief Efforts on Behalf of Families Affected by Presidentially Declared Disasters, 87 FR 469 (Section 8 Disaster Notice) provides additional rent standard flexibility in presidentially declared disaster areas. Due to the extensive damage to housing units in the declared disaster area and the need to ensure safe and decent units are immediately available to eligible households to prevent homelessness and protect the health of the people with HIV served under the program, HUD has determined that it is not practicable for grantees to be held to the rent standards in 24 CFR 574.320(a)(2) even with the additional flexibilities under Notice CPD-22-10 and the Section 8 Disaster Notice. Waiving the requirement to use the rent standard in the calculation of the maximum monthly rental assistance amount under § 574.320(a)(1), while still requiring that the unit be rent reasonable in accordance with § 574.320(a)(3), will make more units immediately available to HOPWA eligible individuals and families in need of permanent housing in the declared-disaster areas and will help to quickly stabilize their housing and health.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of March 30, 2023.

Nature of Requirement: Each grantee must maintain records to document compliance with HOPWA requirements, which includes determining the eligibility of a family to receive HOPWA assistance.

Granted By: Marion McFadden, Principal Deputy Assistant Secretary for Community Planning and Development.

Date Granted: March 30, 2023.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Lisa Steinhauer, Office of HIV/AIDS Housing, Office of Community Planning and Development, Department of Housing and Urban Development, 451 Seventh Street SW, Room 7248, Washington, DC 20410, telephone (215) 861-7651, lisa.a.steinhauer@hud.gov.

I. Expedited COVID-19 Waivers (Notice CPD-22-09)—CoC

CoC—Suitable Dwelling Size and Housing Quality Standards—Permanent Housing—Rapid Re-Housing Projects

• Regulation: 24 CFR 578.75(c), and 24 CFR 982.401(d)(2)(ii) as required by 24 CFR 578.75(b)

Nature of Requirement: 4 CFR 578.75(c), suitable dwelling size, and 24 CFR 982.401(d)(2)(ii) as required by 578.75(b), Housing Quality Standards, requires units funded with CoC Program funds to have at least one bedroom or living/sleeping room for each two persons.

The following table provides a summary of the waivers HUD provided with respect to this requirement in accordance with the expedited waiver process described in Notice CPD-22-09, which is available at www.hud.gov/sites/dfiles/OCHCO/documents/2022-09cpdn.pdf.

Project/Activity: Notice CPD-22-09 authorized expedited processing of recipient requests to waive the regulatory requirements at 24 CFR 578.75(c), suitable dwelling size, and 24 CFR 982.401(d)(2)(ii) as required by 24 CFR 578.75(b) so that recipients carrying out Permanent Housing—Rapid Rehousing projects are able to assist program participants to move into housing with more than two persons per room. Recipients should balance the use of this waiver with the recommendations of public health officials to limit community spread and reduce the risks to high-risk populations consistent with the Executive Order on Fighting the Spread of COVID-19 by Providing Assistance to Renters and Homeowners. This waiver is only made available with respect to recipients providing Permanent Housing—Rapid Re-housing assistance for leases and occupancy agreements executed by recipients and subrecipients between the effective date of the HUD-approved waiver and March 31, 2023. Assisted units with leases and occupancy agreements signed during this period of time may have more than two persons for each bedroom or living/sleeping room until the later of (1) the end of the initial term of the lease or occupancy agreement; or (2) March 31, 2023.

Grantee | Grant No(s). | Date granted | Reasons waived
County of Santa Clara | CA1385L9T002005, CA1385L9T002106, CA1528L9T002004, CA1528L9T002105, CA1728D9T002002, CA1728D9T002103, CA1911D9T002001, CA1911D9T002102 | 10/11/2022 | A
State of Connecticut Department of Housing | CT0242L1E052007, CT0278L1E052106, CT0279L1E052106, CT0294L1E052105, CT0301L1E032104, CT0306L1E052104, CT0317Y1E052002, CT0326D1E032103, CT0330D1E052103, CT0336D1E032001, CT0336D1E032102, CT0338D1E052001, CT0338D1E052102, CT0339L1E052001, CT0339L1E052102, CT0352Y1E052100, CT0356D1E052100 | 10/11/2022 | A
United Neighborhood Centers of Northeastern Pennsylvania | PA0806L3T082004 | 11/14/2022 | A
Liberty Community Services, Inc | CT0282L1E051904 | 11/14/2022 | A
City of Albuquerque | NM0101L6B002106 | 12/14/2022 | B
King County Regional Homelessness Authority | WA0295L0T002107, WA0319L0T002106, WA0363L0T002105, WA0366L0T002105, WA0411L0T002103, WA0412D0T002103, WA0451D0T002102, WA0484Y0T002100, WA0485Y0T002100 | 12/14/2022 | A, B
City and County of Denver Department of Housing Stability | CO0154L8T032003, CO0154L8T032104 | 12/14/2022 | A
Homeless Services Network of Central Florida, Inc | FL0605L4H072005, FL0605L4H072106, FL0562L4H072005, FL0562L4H072106 | 12/14/2022 | A
Neighborhood House | OR0222L0E012004 | 12/14/2022 | B
Welcome House Inc | KY0168L4I001903 | 12/14/2022 | A
Nye County | NV0139L9T022102, NV0139L9T022001 | 11/18/2022 | A
Regional Taskforce on Homelessness | CA1814Y9D012001, CA1816Y9D012001 CA1818Y9D012001, CA1814Y9D012102 CA1816Y9D012102, CA1818Y9D012102 | 11/18/2022 | B
City of Albuquerque | NM0101L6B002106 | 11/18/2022 | B
Orange County, NC | NC0485L4F132100 | 11/18/2022 | B
Laurel House | PA0957D3T042102 | 11/18/2022 | A

Code Key for Reasons Waived:

A. Potential negative impacts of the pandemic on providing assistance to program participants, including the delay of identifying housing or the onset of housing instability.

B. Local data related to the pandemic's impact that supports the waiver flexibility, the number of unassisted households living in units with more than two persons per room in the geographic area).

Granted By: Marion McFadden, Principal Deputy Assistant Secretary for Community Planning and Development.

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

CoC—Fair Market Rent for Individual Units and Leasing Costs

• Regulation: 24 CFR 578.49(b)(2).

Nature of Requirement: 24 CFR 578.49(b)(2) prohibits a recipient from using grant funds for leasing to pay above FMR when leasing individual units, even if the rent is reasonable when compared to other similar, unassisted units.

The following table provides a summary of the waivers HUD provided with respect to this requirement in accordance with the expedited waiver process described in Notice CPD-22-09, which is available at www.hud.gov/sites/dfiles/OCHCO/documents/2022-09cpdn.pdf.

Project/Activity: Notice CPD-22-09 authorized expedited processing of recipient requests to waive the regulatory requirement at 24 CFR 578.49(b)(2) and use grant funds to pay for rent above FMR when leasing individual units under leases executed before the expiration of this Notice, so long as the rent paid for individual units meets the rent reasonableness standard at 24 CFR 578.49(b)(2).

This waiver is only made available with respect to leases of individual units between the effective date of the HUD-approved waiver and March 31, 2023, although the recipient may request that the waiver remain applicable to a lease of an individual unit in which a program participant is assisted during that time period may continue to benefit from this waiver through until the earlier of the end of the lease or the end of the period of performance/approved budget period(s) for the recipient's grant(s) covered by the waiver.

Grantee | Grant No(s). | Date granted | Reasons waived
Preble Street | ME0133Y1T001800 | 10/11/2022 | A
Monroe County Opportunity Program | MIO248L5F152113 | 10/11/2022 | A, B
WV Coalition to End Homelessness | WV0122L3E082106 | 10/11/2022 | A
Crisis House | CA1433L9D012005, CA1690L9D012104 | 10/11/2022 | A, B
The Lord's Place | FL0368L4D052112, FL0594L4D052003, FL0594L4D052104, FL0711L4D052104 | 10/11/2022 | A
County of Santa Clara | CA1059L9T002008, CA1059L9T002109, CA1911D9T002001, CA1911D9T002102 | 10/11/2022 | A, B
Proyecto Maria | PR0105L4N032108 | 10/27/2022 | A, B
Gulfstream Goodwill | FL0289L4D052013, FL0289L4D052114, FL0347L4D052009, FL0347L4D052110, FL0503L4D052007, FL0503L4D052108, FL0842Y4D051899, FL0842Y4D052101 | 10/27/2022 | A, B
New Beginnings, Bluegrass, Inc | KY0175L4I022004, KY0175L4I022105 | 11/4/2022 | A, B
New Vista of The Bluegrass, Inc | KY0087L4I022114 | 11/4/2022 | A, B
United Neighborhood Centers of Northeastern Pennsylvania | PA0382L3T082012 | 11/14/2022 | A
King County Regional Homelessness Authority | WA0053L0T002114 | 12/14/2022 | A
City of Cambridge, Massachusetts | MA0151L1T092111, MA0152L1T092112, MA0156L1T092114, MA0170L1T092114, MA0317L1T092012, MA0317L1T092113, MA0572L1T092004, MA0572L1T092105 | 12/14/2022 | A
Los Angeles Homeless Services Authority | CA1878D9D002102, CA0358L9D002114, CA1335L9D002107, CA1336L9D002107, CA1487L9D002106, CA1789D9D002103, CA2027D9D002100, CA2026D9D002100, CA1879D9D002102, CA2028D9D002 | 12/14/2022 | A
Carson Valley Children's Aid | PA1023D3T042100 | 12/14/2022 | A
Homeless Services Network of Central Florida, Inc | FL0566L4H072005, FL0566L4H072106 | 12/14/2022 | A
Community Action Pioneer Valley | MA0633L1T072103, MA0731L1T072100, MA0604L1T072104 | 12/14/2022 | A
Lawrence County Community Action Partnership | PA0304L3E012111, PA0425L3E012113 | 11/18/2022 | A
Mental Health Systems | CA0708L9D012114, CA1698L9D012104 | 11/18/2022 | A
Benton Franklin Community Action Committee | WA0071L0T012013, WA0071L0T012114, WA0204L0T012012, WA0204L0T012113 | 11/18/2022 | A

Code Key for Reasons Waived:

A. Potential negative impacts of the pandemic on providing assistance to program participants, including the delay of identifying housing due to increased rental rates, low vacancy rates, challenges securing lower rates due to landlord trepidation or the onset of housing instability.

B. Local pandemic-specific delays or limitations (e.g., social distancing requirements, delays in obtaining necessary paperwork due to office closures or staffing shortages, low vaccination rates or high hospitalization rates of people experiencing homelessness, lower wages or higher unemployment rates).

Granted By: Marion McFadden, Principal Deputy Assistant Secretary for Community Planning and Development.

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

CoC—One-Year Lease Requirement

• Regulation: 24 CFR 578.3 and 24 CFR 578.51(l)(1).

Nature of Requirement: 24 CFR 578.3, definition of permanent housing, and 24 CFR 578.51(l)(1) requires program participants residing in permanent housing to be the tenant on a lease for a term of at least one year that is renewable and terminable for cause.

The following table provides a summary of the waivers HUD provided with respect to this requirement in accordance with the expedited waiver process described in Notice CPD-22-09, which is available at www.hud.gov/sites/dfiles/OCHCO/documents/2022-09cpdn.pdf.

Project/Activity: Notice CPD-22-09 authorized expedited processing of recipient requests to waive the regulatory requirements at 24 CFR 578.3 and 24 CFR 578.51(l)(1) that recipients execute a lease that is for a term of less than one year, so long as the initial term of the lease is at least one month.

Grantee | Grant No(s). | Date granted | Reasons waived
Catholic Charities Wichita | KS0103L7P022005, KS0103L7P022106 | 10/11/2022 | A
County of Santa Clara | CA0021L9T002013, CA0021L9T002114, CA0003L9T002011, CA0003L9T002112, CA0825L9T002008, CA0825L9T002109, CA0001L9T002010, CA0001L9T002111, CA1385L9T002005, CA1385L9T002106, CA1274L9T002006, CA1274L9T002107, CA1526L9T002003, CA1526L9T002104, CA1059L9T002008, CA1059L9T002109, CA1528L9T002004, CA1528L9T002105, CA0014L9T002013, CA0014L9T002114, CA1384L9T002004, CA1384L9T002105, CA1729L9T002002, CA1729L9T002103, CA0746L9T002012, CA0746L9T002113, CA1728D9T002002, CA1728D9T002103, CA1909L9T002001, CA1909L9T002102, CA1910L9T002001, CA1910L9T002102, CA1911D9T002001, CA1911D9T002102 | 10/11/2022 | A, B
Gulfstream Goodwill | FL0289L4D052013, FL0289L4D052114, FL0347L4D052009, FL0347L4D052110, FL0503L4D052007, FL0503L4D052108, FL0842Y4D051899, FL0842Y4D052101 | 10/27/2022 | A, B
City of Oklahoma City | OK0044L6I022112, OK0020L6I022112, OK0053L6I022111, OK0024L6I022114, OK0019L61022011, OK0126L61022004 | 11/4/2022 | B
The Family Support Center of South Sound | WA0414D0T012103, WA0371L0T012105 | 11/4/2022 | B
Hope Community Services, Inc | OK0035L6IO42114 | 11/4/2022 | B
Liberty Community Services, Inc | CT0282L1E051904, CT0153L1E051909 | 11/14/2022 | A, B
City of Albuquerque | NM0101L6B002106, NM0014L6B002114, NM0015L6B002114 | 12/14/2022 | B
King County Regional Homelessness Authority | WA0295L0T002107, WA0319L0T002106, WA0363L0T002105, WA0366L0T002105, WA0392L0T002104, WA0411L0T002103, WA0412D0T002103, WA0483D0T002100, WA0033L0T002114, WA0034L0T002114, WA0053L0T002114 | 12/14/2022 | B
City of Cambridge, Massachusetts | MA0151L1T092111, MA0152L1T092112, MA0156L1T092114, MA0170L1T092114, MA0179L1T092114, MA0180L1T092013, MA0180L1T092114, MA0317L1T092012, MA0317L1T092113, MA0543L1T092106, MA0570L1T092105, MA0571L1T092004, MA0571L1T092105, MA0572L1T092004, MA0572L1T092105, MA0637D1T092103, MA0638L1T092103 | 12/14/2022 | B
Los Angeles Homeless Services Authority | CA1878D9D002102, CA0340L9D002114, CA0345L9D002114, CA0347L9D002114, CA0348L9D002114, CA0353L9D002114, CA0358L9D002114, CA0364L9D002114, CA0373L9D002114, CA0374L9D002114, CA0383L9D002114, CA0409L9D002114, CA0413L9D002114, CA0430L9D002114, CA0433L9D002114, CA0450L9D002114, CA0466L9D002114, CA0494L9D002114, CA0523L9D002114, CA0861L9D002110, CA0993L9D002109, CA0994L9D002108, CA1048L9D002111, CA1335L9D002107, CA1336L9D002107, CA1487L9D002106, CA1684L9D002104, CA1686L9D002104, CA1789D9D002103, CA2027D9D002100, CA2026D9D002100, CA1879D9D002102, CA1787L9D002102, CA2028D9D002100, CA0435L9D002114, CA0442L9D002114 | 12/14/2022 | B
Los Angeles County Development Authority | CA0465L9D002114, CA1158L9D002110, CA0915L9D002112, CA1159L9D002110, CA1503L9D002106, CA0365L9D002114, CA0800L9D002113, CA0914L9D002112, CA0998L9D002106, CA1343L9D002107, CA1596L9D002105, CA0792L9D002113, CA0913L9D002112, CA1597L9D002105, CA1046L9D002111, CA1502L9D002106, CA1504L9D002106, CA0339L9D002114, CA1104L9D002105, CA1109L9D002105, CA1505L9D002106, CA1688L9D002104, CA0421L9D002114, CA0742L9D002114, CA0860L9D002107, CA1157L9D002110, CA1218L9D002109, CA1219L9D002109, CA1342L9D002107, CA1344L9D002107, CA1687L9D002104, CA0365L9D002013, CA0800L9D002012, CA0914L9D002011, CA0998L9D002005, CA1343L9D002006, CA1596L9D002004, CA0792L9D002012, CA0913L9D002011, CA1597L9D002004, CA1046L9D002010, CA1502L9D002005, CA1504L9D002005, CA0339L9D002013, CA1104L9D002004, CA1109L9D002004, CA1505L9D002005, CA1688L9D002003, CA0421L9D002013, CA0742L9D002013, CA0860L9D002006, CA1157L9D002009, CA1218L9D002008, CA1219L9D002008, CA1342L9D002006, CA1344L9D002006, CA1687L9D002003 | 12/14/2022 | B
City and County of Denver Department of Housing Stability | CO0055L8T032013, CO0055L8T032114, CO0026L8T032114, CO0104L8T032013, CO0104L8T032114, CO0154L8T032003, and CO0154L8T032104. | 12/14/2022 | B
Homeless Services Network of Central Florida, Inc | FL0605L4H072005, FL0605L4H072106, FL0562L4H072005, FL0562L4H072106, FL0566L4H072005, FL0566L4H072106, FL0561L4H072005, FL0561L4H072106 | 12/14/2022 | B
Neighborhood House | OR0222L0E012004 | 12/14/2022 | B
Impact NW | WA0276L0T082108 | 11/18/2022 | B
Regional Taskforce on Homelessness | CA1814Y9D012001, CA1816Y9D012001 CA1818Y9D012001, CA1814Y9D012102 CA1816Y9D012102, CA1818Y9D012102 | 11/18/2022 | B
City of Albuquerque | NM0101L6B002106, NM0014L6B002114, NM0015L6B002114 | 11/18/2022 | B
Laurel House | PA0957D3T042102 | 11/18/2022 | B
Amador-Tuolumne Community Action Agency | CA1588L9T2672004 | 11/18/2022 | B

Code Key for Reasons Waived:

A. Potential negative impacts of the pandemic on providing assistance to program participants, including the delay of identifying housing or the onset of housing instability.

B. Local pandemic-specific delays or limitations (e.g., social distancing requirements, delays in obtaining necessary paperwork due to office closures or staffing shortages, challenges securing 12-month leases due to landlord trepidation or low vacancy rates).

Granted By: Marion McFadden, Principal Deputy Assistant Secretary for Community Planning and Development.

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

CoC—Permanent Housing Rapid Re-Housing Limit to 24 Months Rental Assistance

• Regulation: 24 CFR 578.37(a)(1)(ii), 24 CFR 578.51(a)(1)(i), 24 CFR 578.37(a)(1)(ii), and 24 CFR 578.37(a)(1)(ii)(C).

Nature of Requirement: 24 CFR 578.37(a)(1)(ii) and 24 CFR 578.51(a)(1)(i) defines medium term rental assistance as 3-24 months and 24 CFR 578.37(a)(1)(ii) and 24 CFR 578.37(a)(1)(ii)(C) limits rental assistance in Rapid Re-housing projects to medium-term rental assistance, or no more than 24 months.

The following table provides a summary of the waivers HUD provided with respect to this requirement in accordance with the expedited waiver process described in Notice CPD-22-09, which is available at www.hud.gov/sites/dfiles/OCHCO/documents/2022-09cpdn.pdf.

Project/Activity: Notice CPD-22-09 authorized expedited processing of recipient requests to waive the regulatory requirements at 24 CFR 578.37(a)(1)(ii), 24 CFR 578.37(a)(1)(ii)(C), and 24 CFR 578.51(a)(1)(i) in permanent housing rapid-rehousing projects for program participants who will have reached their 24-months of rental assistance between the publication of this Notice and March 31, 2023 and who will not be able to afford their rent without additional rental assistance. Program participants who have reached their 24-months of rental assistance during this time will be eligible to receive additional rental assistance from the effective date of a HUD-approved waiver until March 31, 2023.

Grantee | Grant No(s). | Date granted | Reasons waived
St. Jude's Ranch for Children | NV0119L9T002104, NV0082L9T002108 | 10/3/2022 | A, B
County of Santa Clara | CA1385L9T002005, CA1385L9T002106, CA1528L9T002004, CA1528L9T002105, CA1728D9T002002, and CA1728D9T002103 | 10/11/2022 | A, B
State of Connecticut Department of Housing | CT0242L1E052007, CT0279L1E052106, CT0294L1E052105, CT0301L1E032104, CT0306L1E052104, CT0317Y1E052002, CT0326D1E032103, CT0330D1E052103, CT0336D1E032001, CT0336D1E032102, CT0338D1E052001, CT0338D1E052102, CT0339L1E052001, CT0339L1E052102, CT0352Y1E052100 | 10/11/2022 | A, B
Gulfstream Goodwill | FL0843Y4D051899, FL0843Y4D052101 | 10/27/2022 | A, B
Community Action Partnership of Lancaster and Saunders Counties | NE0106L7D022105 | 11/4/2022 | A, B
United Neighborhood Centers of Northeastern Pennsylvania | PA0806L3T082004 | 11/14/2022 | A, B
Liberty Community Services, Inc | CT0282L1E051904 | 11/14/2022 | A
City of Albuquerque | NM0101L6B002106 | 12/14/2022 | A
King County Regional Homelessness Authority | WA0295L0T002107, WA0319L0T002106, WA0363L0T002105, WA0366L0T002105, WA0412D0T002103, WA0485Y0T002100 | 12/14/2022 | A, B
City of Cambridge, Massachusetts | MA0543L1T092106, MA0637D1T092103, and MA0638L1T092103 | 12/14/2022 | A
Los Angeles Homeless Services Authority | CA1335L9D002107, CA1336L9D002107, CA1487L9D002106, CA2027D9D002100, CA2026D9D002100, CA1879D9D002102, CA0358L9D002114 | 12/14/2022 | A, B
Carson Valley Children's Aid | PA1023D3T042100 | 12/14/2022 | A
City and County of Denver Department of Housing Stability | CO0154L8T032003, CO0154L8T032104 | 12/14/2022 | A
Homeless Services Network of Central Florida, Inc | FL0605L4H072005, FL0605L4H072106, FL0562L4H072005, FL0562L4H072106 | 12/14/2022 | A
Neighborhood House | OR0222L0E012004 | 12/14/2022 | A
Regional Taskforce on Homelessness | CA1814Y9D012001, CA1816Y9D012001, CA1818Y9D012001, CA1814Y9D012102, CA1816Y9D012102, CA1818Y9D012102 | 11/18/2022 | B
City of Albuquerque | NM0101L6B002106 | 11/18/2022 | A
Orange County, NC | NC0485L4F132100 | 11/18/2022 | A, B
Lawrence County Community Action Partnership | PA0775L3E012106 and PA0901L3E012104 | 11/18/2022 | B

Code Key for Reasons Waived:

A. Potential negative impacts of the pandemic on providing assistance to program participants, including the delay of identifying housing or the onset of housing instability.

B. Local pandemic-specific delays or limitations (e.g., social distancing requirements, delays in obtaining necessary paperwork due to office closures or staffing shortages, low vaccination rates or high hospitalization rates of people experiencing homelessness, lower wages or higher unemployment rates).

Granted By: Marion McFadden, Principal Deputy Assistant Secretary for Community Planning and Development.

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

CoC—Disability Documentation for Permanent Supportive Housing

• Regulation: 24 CFR 578.103(a) and 24 CFR 578.103(a)(4)(i)(B).

Nature of Requirement: Intake-staff recorded observations of disability is acceptable evidence when documenting disability for individuals and families that meet the “chronically homeless” definition at 24 CFR 578.3. However, the CoC Interim Rule requires such observations to be confirmed and accompanied by other evidence no later than 45 days from the application for assistance.

The following table provides a summary of the waivers HUD provided with respect to this requirement in accordance with the expedited waiver process described in Notice CPD-22-09, which is available at www.hud.gov/sites/dfiles/OCHCO/documents/2022-09cpdn.pdf.

Project/Activity: Notice CPD-22-09 authorized expedited processing of recipient requests to waive the regulatory requirements at 24 CFR 578.103(a) and 24 CFR 578.103(a)(4)(i)(B) that staff-recorded observation of disability be confirmed and accompanied by other evidence no later than 45 days from the application for assistance documentation until the expiration of this Notice. Note that a written certification by the individual seeking assistance that they have a qualifying disability will be acceptable documentation approved by HUD under 24 CFR 578.103(a)(4)(i)(B)(5) until the expiration of this Notice.

Grantee | Grant No(s). | Date granted | Reasons waived
La Casa Norte | IL0594L5T102006, IL0666L5T102004, IL0594L5T102107, IL0666L5T102105 | 10/11/2022 | A, B
Revive Center for Housing and Healing | IL0126L5T102013, IL0126L5T102114 | 10/11/2022 | A
County of Santa Clara | CA0021L9T002013, CA0021L9T002114, CA0003L9T002011, CA0003L9T002112, CA0825L9T002008, CA0825L9T002109, CA0001L9T002010, CA0001L9T002111, CA1274L9T002006, CA1274L9T002107, CA1526L9T002003, CA1526L9T002104, CA1059L9T002008, CA1059L9T002109, CA0014L9T002013, CA0014L9T002114, CA1384L9T002004, CA1384L9T002105, CA1729L9T002002, CA1729L9T002103, CA0746L9T002012, CA0746L9T002113, CA1909L9T002001, CA1909L9T002102, CA1910L9T002001, CA1910L9T002102, CA1966L9T002100 | 10/11/2022 | A, B
Gulfstream Goodwill | FL0289L4D052013, FL0289L4D052114, FL0347L4D052009, FL0347L4D052110, FL0503L4D052007, FL0503L4D052108, FL0842Y4D051899, FL0842Y4D052101 | 10/27/2022 | B
City of Oklahoma City | OK0044L6I022112, OK0020L6I022112, OK0053L6I022111, OK0024L6I022114 | 11/4/2022 | A
Hope Community Services, Inc | OK0035L6IO42114 | 11/4/2022 | A
United Neighborhood Centers of Northeastern Pennsylvania | PA0382L3T082012, PA0581L3T082009 | 11/14/2022 | A, B
Chicago House and Social Service Agency | IL0108L5T102114, IL0215L5T102114 | 12/14/2022 | A, B
City of Albuquerque | NM0015L6B002114, NM0014L6B002114 | 12/14/2022 | A
King County Regional Homelessness Authority | WA0466L0T002102, WA0410L0T002102, WA0390L0T002102, WA0384L0T002103, WA0364L0T002105, WA0345L0T002104, WA0344L0T002105, WA0320L0T002106, WA0318L0T002106, WA0316L0T002106, WA0297L0T002107, WA0259L0T002109, WA0244L0T002109, WA0239L0T002111, WA0228L0T002111, WA0227L0T002108, WA0213L0T002111, WA0053L0T002114, WA0048L0T002114, WA0045L0T002114, WA0036L0T002114, WA0034L0T002114, WA0033L0T002114, WA0018L0T002114, WA0001L0T002112 | 12/14/2022 | B
City and County of Denver Department of Housing Stability | CO0055L8T032013, CO0055L8T032114, CO0026L8T032114, CO0104L8T032013, and CO0104L8T032114 | 12/14/2022 | A, B
Homeless Services Network of Central Florida, Inc | FL0563L4H072005, FL0563L4H072106, FL0331L4H072009, FL0331L4H072110, FL0093L4H072013, FL0093L4H072114, FL0566L4H072005, FL0566L4H072106, FL0561L4H072005, FL0561L4H072106 | 12/14/2022 | A, B
Community Action Pioneer Valley | MA0691Y1T071800, MA0735Y1T072100, MA0401L1T072110, MA0633L1T072103, MA0604L1T072104, MA0072L1T072114, MA0353L1T072112, MA0468L1T072108, MA0731L1T072100 | 12/14/2022 | A
Impact NW | WA0276L0T082108 | 11/18/2022 | B
City of Albuquerque | NM0014L6B002114, NM0015L6B002114 | 11/18/2022 | B
Heartland Health Outreach, Inc | IL0097L5T102114, IL0179L5T102114, IL0180L5T102114, IL0216L5T102114, IL0269L5T112114, IL0374L5T102111, IL0393L5T102113 | 11/18/2022 | A, B
Breakthrough Urban Ministries | IL0163L5T102114, IL0389L5T102113 | 11/18/2022 | A
Center for Housing and Health | IL0493L5T102109 | 11/18/2022 | B

Code Key for Reasons Waived:

A. Insufficient staffing levels to carry out activities due to the pandemic's impact on the community or jurisdiction.

B. Local pandemic-specific delays or limitations (e.g., social distancing requirements, delays in obtaining necessary paperwork due to office closures or staffing shortages, low vaccination rates or high hospitalization rates of people experiencing homelessness or people living with HIV).

Granted By: Marion McFadden, Principal Deputy Assistant Secretary for Community Planning and Development.

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

II. Expedited COVID-19 Waivers (Notice CPD-22-09)—ESG

ESG—Assisting Program Participants With Subleases

• Regulation: 24 CFR 576.105; 24 CFR 576.106.

Nature of Requirement: The use of “owner” and “lease” in 24 CFR 576.105 and 576.106 restrict program participants from receiving rental assistance under 24 CFR 576.106 and certain services under 24 CFR 576.105 with respect to units that program participants sublease or lease from a person other than the owner or the owner's agent.

The following table provides a summary of the waivers HUD provided with respect to this requirement in accordance with the expedited waiver process described in Notice CPD-22-09, which is available at www.hud.gov/sites/dfiles/OCHCO/documents/2022-09cpdn.pdf.

Project/Activity: Notice CPD-22-09 authorized expedited processing of recipient requests to waive the regulatory requirements in 24 CFR 576.105 and 576.106 to the extent that the references to “owner” and “lease” in 24 CFR 576.105 and 576.106 restrict program participants from receiving assistance in units they sublease from the primary leaseholder, provided that the recipient is able to assure HUD that: (i) The waiver will be used only when the program participant chooses to rent a unit through a legally valid sublease with the primary leaseholder for the unit; and (ii) The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with primary leaseholder. In addition, to be considered for expedited processing, the waiver request must specify the period during which the recipient needs to house program participants using this flexibility, and that period must not extend beyond March 31, 2023, although the recipient may request that the waiver remain applicable to any sublease approved during that period until the earlier of the end of the program participant's otherwise allowable term of assistance or the end of the period of performance/approved budget period(s) for the recipient's grant(s) covered by the waiver.

Grantee | Grant No(s). | Date granted | Reasons waived
City and County of Denver | E-21-MC-08-0005, E22-08-0005 | 11/4/2022 | A
City of Las Vegas | E-21-MC-32-0001 | 11/4/2022 | A, B
City of Tampa | E-21-MC-12-0020, E-22-MC-12-0020 | 11/4/2022 | A, B
Bexar County | E-21-UC-48-0500 | 11/4/2022 | A
City of Modesto | E-21-MC-06-0002, E-22-MC-06-0002 | 11/14/2022 | A
California Department of Housing and Community Development | E-22-DC-06-0001, E-21-DC-06-0001 | 11/14/2022 | A
Neighborhood Services Department | E-21-MC0-40-502, E-21-MC0-40-502 | 11/18/2022 | A
Cobb County Government | E-21-UC-13-0002, E-22-UC-13-0002 | 11/18/2022 | A
Tennessee Housing Development Agency | E-21-DC-470-001, E-22-DC-470-001 | 11/18/2022 | A
Economic Development Department | E-21-MC-060-542, E-22-MC-060-542 | 11/14/2022 | A
Maryland Department of Housing and Community Development | E-21-DC-240-001, E-22-DC-240-001 | 11/14/2022 | A

Code Key for Reasons Waived:

A. Potential negative impacts of the pandemic on providing assistance to program participants, including the delay of identifying housing or the onset of housing instability.

B. Local pandemic-specific delays or limitations (e.g., social distancing requirements, delays in obtaining necessary paperwork due to office closures or staffing shortages).

Granted By: Marion McFadden, Principal Deputy Assistant Secretary for Community Planning and Development.

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

ESG—Durational Limits on Housing Relocation and Stabilization Services

• Regulation: 24 CFR 576.105(b)(2); 24 CFR 576.105(c).

Nature of Requirement: 24 CFR 576.105(b)(2) limits the provision of housing stability case management to 30 days while the program participant is seeking permanent housing and to 24 months during the period the program participant is living in housing. 24 CFR 576.105(c) limits the total amount of time a program participant may receive services under 24 CFR 576.105(b) to 24 months during any 3-year period.

The following table provides a summary of the waivers HUD provided with respect to this requirement in accordance with the expedited waiver process described in Notice CPD-22-09, which is available at www.hud.gov/sites/dfiles/OCHCO/documents/2022-09cpdn.pdf.

Project/Activity: Notice CPD-22-09 authorized expedited processing of recipient requests to waive one or more of the 24-month limits under 24 CFR 576.105(a)(5), 24 CFR 576.105(b)(2), and 24 CFR 576.105(c) for program participants who continue to need assistance beyond the 24-month limit(s) to maintain housing stability Additionally, this notice provides for expedited process of recipient requests to waive 24 CFR 576.105(b)(2) to allow recipients to pay for housing stability case management for up to 60 days while the program participant is seeking housing.

Grantee | Grant No(s). | Date granted | Reasons waived
City and County of Denver | E-21-MC-08-0005, E22-08-0005 | 11/4/2022 | A
New Bedford Office of Housing and Community Development | E-21-MC-25-0018, E-22-MC-25-0018 | 11/4/2022 | A
City of Las Vegas | E-21-MC-32-0001 | 11/4/2022 | A
City of Tampa | E-21-MC-12-0020, E-22-MC-12-0020 | 11/4/2022 | A
Bexar County | E-21-UC-48-0500 | 11/4/2022 | A
City of Modesto | E-21-MC-06-0002, E-22-MC-06-0002 | 11/14/2022 | A
California Department of Housing and Community Development | E-22-DC-06-0001, E-21-DC-06-0001 | 11/14/2022 | A
City of Columbus Department of Development | E-22-MC-39-0009 | 11/14/2022 | B
Salt Lake City Corporation | E-21-MC4-90-004, E-22-MC4-90-004 | 12/14/2022 | A
Neighborhood Services Department | E-21-MC0-40-502, E-21-MC0-40-502 | 11/18/2022 | A
Cobb County Government | E-21-UC-13-0002, E-22-UC-13-0002 | 11/18/2022 | A
Arundel Community Development Services | E-21-UC-24-0010, E-22-UC-24-0010 | 11/18/2022 | A
Tennessee Housing Development Agency | E-21-DC-470-001, E-22-DC-470-001 | 11/18/2022 | A
City of Cincinnati Office of the City Manager | E-21-MC-390-003, E-22-MC-390-003 | 11/14/2022 | A
Economic Development Department | E-21-MC-060-542, E-22-MC-060-542 | 11/14/2022 | A, B
Maryland Department of Housing and Community Development | E-21-DC-240-001, E-22-DC-240-001 | 11/14/2022 | A, B
County of Bucks, Department of Housing & Community Development | E-21-UC-42-0004 | 11/14/2022 | A

Code Key for Reasons Waived:

A. Potential negative impacts of the pandemic on providing assistance to program participants, including the delay of identifying housing due to increased rental rates, low vacancy rates or the onset of housing instability.

B. Local pandemic-specific delays or limitations (e.g., social distancing requirements, delays in obtaining necessary paperwork due to office closures or staffing shortages, low vaccination rates or high hospitalization rates of people experiencing homelessness, lower wages or higher unemployment rates).

Granted By: Marion McFadden, Principal Deputy Assistant Secretary for Community Planning and Development.

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

ESG—24-Month Limit on Rental Assistance

• Regulation: 24 CFR 576.106(a).

Nature of Requirement: 24 CFR 576.106(a) limits the total amount of time a program participant may receive rental assistance to 24-months during a 3-year period. The following table provides a summary of the waivers HUD provided with respect to this requirement in accordance with the expedited waiver process described in Notice CPD-22-09, which is available at www.hud.gov/sites/dfiles/OCHCO/documents/2022-09cpdn.pdf.

Project/Activity: Notice CPD-22-09 authorized expedited processing of recipient requests to waive the 24-month limit on rental assistance under 24 CFR 576.106(a) for program participants who have received 24-months of rental assistance over a 3-year period but will not be able to afford their rent without additional rental assistance.

Grantee | Grant No(s). | Date granted | Reasons waived
City and County of Denver | E-21-MC-08-0005, E22-08-0005 | 11/4/2022 | A, B
City of Las Vegas | E-21-MC-32-0001 | 11/4/2022 | A
City of Tampa | E-21-MC-12-0020, E-22-MC-12-0020 | 11/4/2022 | A
Bexar County | E-21-UC-48-0500 | 11/4/2022 | A
City of Modesto | E-21-MC-06-0002, E-22-MC-06-0002 | 11/14/2022 | A
California Department of Housing and Community Development | E-22-DC-06-0001; E-21-DC-06-0001 | 11/14/2022 | A
Salt Lake City Corporation | E-21-MC4-90-004, E-22-MC4-90-004 | 12/14/2022 | A
Cobb County Government | E-21-UC-13-0002, E-22-UC-13-0002 | 11/18/2022 | A, B
Collier County Government | E-21-UC-120-016, E-22-UC-120-016 | 11/18/2022 | A
Arundel Community Development Services | E-21-UC-24-0010, E-22-UC-24-0010 | 11/18/2022 | A, B
Tennessee Housing Development Agency | E-21-DC-470-001, E-22-DC-470-001 | 11/18/2022 | A, B
City of Cincinnati Office of the City Manager | E-21-MC-390-003, E-22-MC-390-003 | 11/14/2022 | A
Economic Development Department | E-21-MC-060-542, E-22-MC-060-542 | 11/14/2022 | A, B
Maryland Department of Housing and Community Development | E-21-DC-240-001, E-22-DC-240-001 | 11/14/2022 | A, B

Code Key for Reasons Waived:

A. Potential negative impacts of the pandemic on providing assistance to program participants, including the delay of identifying housing due to increased rental rates, low vacancy rates or the onset of housing instability.

B. Local pandemic-specific delays or limitations (e.g., social distancing requirements, delays in obtaining necessary paperwork due to office closures or staffing shortages, low vaccination rates or high hospitalization rates of people experiencing homelessness, lower wages or higher unemployment rates).

Granted By: Marion McFadden, Principal Deputy Assistant Secretary for Community Planning and Development.

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

ESG—Restriction of Rental Assistance to Units With Rent at or Below FMR

• Regulation: 24 CFR 576.106(d)(1).

Nature of Requirement: 24 CFR 576.106(d)(1) provides that rental assistance cannot be provided unless the total rent is equal to or less than the FMR established by HUD, as provided under 24 CFR part 888, and complies with HUD's standard of rent reasonableness, as established under 24 CFR 982.507.

The following table provides a summary of the waivers HUD provided with respect to this requirement in accordance with the expedited waiver process described in Notice CPD-22-09, which is available at www.hud.gov/sites/dfiles/OCHCO/documents/2022-09cpdn.pdf.

Project/Activity: Notice CPD-22-09 authorized expedited processing of recipient requests to waive the FMR-based limitation in 24 CFR 576.106(d)(1), so that a recipient can provide rental assistance to program participants in units that are above FMR, so long as the rent is reasonable when compared to other similar unassisted units. However, to be considered for expedited processing, the waiver request must specify the period during which the recipient needs to house program participants using this flexibility, and that period must not extend beyond March 31, 2023, although the recipient may request that the waiver remain applicable to any unit in which a program participant is assisted during that time period may continue to benefit from this waiver through until the earlier of the end of the program participant's otherwise allowable term of assistance or the end of the period of performance/approved budget period(s) for the recipient's grant(s) covered by the waiver.

Grantee | Grant No(s). | Date granted | Reasons waived
Neighborhood Services Department | E-21-MC-19-0003 | 10/11/2022 | A
City and County of Denver | E-21-MC-08-0005, E22-08-0005 | 11/4/2022 | A
New Bedford Office of Housing and Community Development | E-21-MC-25-0018, E-22-MC-25-0018 | 11/4/2022 | A
City of Sioux City | E-21-MC-19-0006 | 11/4/2022 | A
City of Las Vegas | E-21-MC-32-0001 | 11/4/2022 | A
City of Tampa | E-21-MC-12-0020, E-22-MC-12-0020 | 11/4/2022 | A
Bexar County | E-21-UC-48-0500 | 11/4/2022 | A
City of Modesto | E-21-MC-06-0002, E-22-MC-06-0002 | 11/14/2022 | A
California Department of Housing and Community Development | E-22-DC-06-0001, E-21-DC-06-0001 | 11/14/2022 | A
City of Columbus Department of Development | E-22-MC-39-0009 | 11/14/2022 | A
Pasco County | E-21-UC-120-009 | 12/14/2022 | A
Pierce County | E-21-UC-530-002, E-22-UC-530-002 | 12/14/2022 | A
Salt Lake City Corporation | E-21-MC4-90-004, E-22-MC4-90-004 | 12/14/2022 | A
Mississippi Home Corporation | E-21-DC2-80-001 | 12/14/2022 | A
Neighborhood Services Department | E-21-MC0-40-502, E-21-MC0-40-502 | 11/18/2022 | A
City of Dallas | E-22-MC4-80-009, E-21-MC4-80-009 | 11/18/2022 | A
Cobb County Government | E-21-UC-13-0002, E-22-UC-13-0002 | 11/18/2022 | A
Collier County Government | E-21-UC-120-016, E-22-UC-120-016 | 11/18/2022 | A
Arundel Community Development Services | E-21-UC-24-0010, E-22-UC-24-0010 | 11/18/2022 | A
Tennessee Housing Development Agency | E-21-DC-470-001, E-22-DC-470-001 | 11/18/2022 | A
City of Albuquerque | E-21-MC-350-001 | 11/18/2022 | A
City of Richmond | E-21-MC-510-019, E22-MC-510-019 | 11/18/2022 | A
Municipality of San Juan | E-21-MC-720-007 | 11/18/2022 | A
Homeless Services | E-21-UC-290-001 | 11/18/2022 | A
City of Grand Rapids Community Development Department | E-22-MC-26-0019 | 11/14/2022 | A
City of Cincinnati Office of the City Manager | E-21-MC-390-003, E-22-MC-390-003 | 11/14/2022 | A
Economic Development Department | E-21-MC-060-542, E-22-MC-060-542 | 11/14/2022 | A
Guam Housing and Urban Renewal Authority | E-21-ST-66-0001, E-22-ST-66-0001 | 11/14/2022 | A
Maryland Department of Housing and Community Development | E-21-DC-240-001, E-22-DC-240-001 | 11/14/2022 | A
County of Bucks, Department of Housing & Community Development | E-21-UC-42-0004 | 11/14/2022 | A

Code Key for Reasons Waived:

A. Potential negative impacts of the pandemic on providing assistance to program participants, including the delay of identifying housing due to increased rental rates, low vacancy rates, challenges securing lower rates due to landlord trepidation or the onset of housing instability.

B. Local pandemic-specific delays or limitations (e.g., social distancing requirements, delays in obtaining necessary paperwork due to office closures or staffing shortages, low vaccination rates or high hospitalization rates of people experiencing homelessness, lower wages or higher unemployment rates).

Granted By: Marion McFadden, Principal Deputy Assistant Secretary for Community Planning and Development.

Contact: More information about each waiver and a copy of the request and the approval may be obtained by contacting: Norm Suchar, Director, Office of Special Needs Assistance Programs, Office of Community Planning and Development, Department of Housing and Urban Development, 451 Seventh Street SW, Room 7262, Washington, DC 20410, telephone number (202) 708-4300.

II. Regulatory Waivers Granted by the Office of Housing—Federal Housing Administration (FHA)

For further information about the following regulatory waivers, please see the name of the contact person that immediately follows the description of the waiver granted.

• Regulation: 24 CFR 203.604 Contact with the Mortgagor.

Project/Activity: Temporary, Partial Waiver of Servicing Mortgagee's Responsibility to Contact Mortgagor in Person.

Nature of Requirement: 24 CFR 203.604 Contact with the Mortgagor, under Mortgagee Actions under Subpart C—Servicing Responsibilities of 24 CFR part 203 Single Family Insurance, requires mortgagees to have a face-to-face interview with the mortgagor, or make a reasonable effort to arrange such a meeting, before three full monthly installments due on the mortgage are unpaid. If default occurs in a repayment plan arranged other than during a personal interview, the mortgagee must have a face-to-face meeting the mortgagor, or make a reasonable attempt to arrange such a meeting within 30 days after such default and at least 30 days before foreclosure is commenced, or at least 30 days before assignment is requested if the mortgage is insured on Hawaiian home land pursuant to section 247 or Indian land pursuant to section 248 or if assignment is requested under § 203.350(d) for mortgages authorized by section 203(q) of the National Housing Act.

Granted by: Julia R. Gordon, Assistant Secretary for Housing—FHA Commissioner.

Date Granted: December 19, 2022.

Reason Waived: HUD's servicing requirement for FHA-insured forward mortgages requires that a mortgagee conduct a face-to-face interview with the borrower, which is not practical given the public health recommendations being disseminated by local, state, and federal government agencies to limit contact between individuals, in order to contain the spread of the COVID-19 virus and its variants. HUD recognizes that, beyond government recommendations, there is public concern about possible transmission of COVID-19 from in-person contact, and that mortgagees and borrowers may be hesitant to meet in-person. FHA-approved mortgagees have been able to successfully establish contact with borrowers through alternate methods, gather and convey required information, and determine the borrower's circumstances and appropriate repayment plans, as required by 24 CFR 203.604, without a face-to-face interview. The waiver was granted to protect the public health while ensuring delinquent borrowers were provided the opportunity to learn about options available to bring their mortgages current.

Contact: Graham Mayfield, Acting Director, Office of Single Family Asset Management, Office of Housing, 451 Seventh Street SW, Room 9172, Washington, DC 20410, telephone (202) 402-2826, Graham.B.Mayfield@hud.gov.

• Regulation: 24 CFR 219.220(b)(1995) “Payment and Repayment of Operating Assistance” of the Federal Housing Administration's (FHA) regulations”.

Project/Activity: Redeemers Arms aka Dale Street Place FHA No. 092-SH017T.

Nature of Requirement: That provision sets forth the requirements that govern the repayment of operating assistance under the Flexible Subsidy Program for Troubled Projects and states “Assistance that has been paid to a project owner under this subpart must be repaid at the earlier of the expiration of the term of the mortgage, termination of mortgage insurance, prepayment of the mortgage, or sale of the project.”

Granted by: Julia R. Gordon, Assistant Secretary for Housing-Federal Housing Commissioner.

Date Granted: December 15, 2022.

Reason Waived: The regulation at 24 CFR 219.220(b)(1995) was waived to permit the deferment of the outstanding balance of the Flexible Subsidy Loans, plus accrued interest, for Redeemers Arms aka Dale Street Place, and permit the Owner to repay the loans through a repayment plan. The waiver allowed the owner to refinance the property in order to complete much needed rehabilitation.

Contact: Saadia Figueroa-Smallwood, Office of Housing, 400 W Bay Street, Room 1015, Jacksonville, FL 32202, telephone (904) 208-6026, email: Saadia.E.Figueroa-Smallwood@hud.gov.

III. Regulatory Waivers Granted by the Office of Public and Indian Housing

For further information about the following regulatory waivers, please see the name of the contact person that immediately follows the description of the waiver granted.

• Regulation: 24 CFR 982.161 (a).

Project/Activity: Morgan Metropolitan Housing Authority's request to waive HCV regulation stating any present or former member/officer of PHA may not have any direct or indirect interest in the HAP contract.

Nature of Requirement: The regulation at 24 CFR 982.161 (a) allows HUD to evaluate good cause on a case-by-case basis based primarily (though not exclusively) on the needs of assisted families directly affected by removal of the units in question from the affordable housing inventory in a rural area without expansive amounts of other rental housing available.

Granted By: Dominique Blom, General Deputy Assistant Secretary for Public and Indian Housing.

Date Granted: October 5, 2022.

Reason Waived: In May of 2022, the former Executive Director of MMHA, Ms. Haley Hook, discovered that she would be violating Section 13 of HUD Form 5264 by allowing her husband to participate as a landlord in MMHA's housing programs; she subsequently resigned. Upon resignation, her spouse (Mr. John Patterson) would like to continue participating in the Housing Choice Voucher Program as a landlord without waiting the one-year period outlined in Section 13 of the HAP contract and § 982.161(a). Mr. Patterson currently serves five clients through MMHA's Housing Choice Voucher program. MMHA has stated that Mr. Patterson's participation is essential to this PHA because Morgan County substantially lacks available, affordable housing and the participation of landlords. MMHA is a small rural housing authority located in southeastern Ohio. MMHA has also represented that terminating the HAP contracts would result in an undue burden on the five HCV participants living in an area where it would be difficult to locate and obtain other HCV eligible units.

Contact: Kristen Arnold, Housing Programs Specialist, Office of Public and Indian Housing, 451 Seventh Street SW, Washington, DC 20410, telephone 971-222-2667.

• Regulation: SEMAP 24 CFR 985.101 (a).

Project/Activity: Irvington HA requests a waiver of 24 CFR 985.101 submission of the SEMAP certification form within 60 days after the FYE: 3/31/2022.

Nature of Requirement: This regulation states that a public housing agency (PHA) must submit the Department of Housing and Urban Development (HUD) required SEMAP certification form within 60 calendar days after the end of its fiscal year. The PHA's fiscal year ended on March 31, 2022; the SEMAP certification was due on or before May 30, 2022.

Granted By: Dominique Blom, General Deputy Assistant Secretary for Public and Indian Housing.

Date Granted: October 10, 2022.

Reason Waived: On April 5, 2022, the Irvington Housing Authority went into receivership. The Interim Executive Director resigned around the end of May 2022, which disrupted the agency's operations including the submission of the SEMAP certification in a timely manner. IHA has a new staff member ready to submit upon approval and plans to train an additional person to serve as backup to prevent further interruptions.

Contact: Michelle Daniels, Housing Program Specialist, Office of Public and Indian Housing, 451 Seventh Street SW, Washington, DC 20410, telephone 202-402-6051.

• Regulation: 24 CFR 983.

Project/Activity: Pursuant to 24 CFR 5.110, the Pender County Housing Authority (PCHA), NC173, requests a waiver of the federal regulations within 24 CFR 983 that outline requirements for selection of a project-based voucher proposal, selection procedures for PHA-owned units, as well as restrictions on the term of a resulting HAP Contract.

Nature of Requirement: Based on the request, the Department of Housing and Urban Development (HUD) has identified the following regulations necessitating a waiver: 24 CFR 983.51, which provides for owner proposal selection procedures; and 24 CFR 983.59(a), which provides for selection procedures for public housing authority (PHA) owned units in accordance with 24 CFR 983.51(e).

Granted By: Dominique Blom, General Deputy Assistant Secretary for Public and Indian Housing.

Date Granted: November 1, 2022.

Reason Waived: In December 2009, the PBC assistance was renewed and converted under a ten-year PBV HAP contract, covering the term of 2009-2019, however, this contract expired under a former Executive Director, and the expired HAP contract was identified during a recent Calculation of HAP, Adjusted Income and Rent (CHAIR) Review, conducted by Public and Indian Housing (PIH) Quality Assurance Division (QAD). The PHCA would like to provide PBV assistance to the units, notwithstanding the contract's expiration. This requires a waiver of the regulatory requirements specified in the first paragraph of this letter regarding project selection. It further requires the PHCA to determined that all other PBV statutory and regulatory requirements are met regarding the PBV program. The apartments meet the definition of PHA-owned and in 2011, a Memorandum of Understanding (MOU) was executed between PCHA and the Wilmington Housing Authority (WHA) for WHA to conduct HQS inspections for the units. Additionally, PCHA has been informed that additional efforts will be necessary to bring the program into compliance for PHA-owned units, and PCHA must execute agreements for all PBV functions to be performed by an Independent Entity. Further, PCHA has been advised that its administrative plan must be updated to ensure all appropriate policies and provisions for administration of the PBV program.

Contact: Nathaniel Johnson, Housing Program Specialist, Office of Public and Indian Housing, 451 Seventh Street SW, Washington, DC 20410, telephone 202-402-5156.

• Regulation: 24 CFR 5.801(c) and 24 CFR 5.801(d)(1).

Project/Activity: Opelousas Housing Authority (LA055).

Nature of Requirement: The regulation establishes certain reporting compliance dates.

The audited financial statements are required to be submitted to the Real Estate Assessment Center (REAC) no later than nine months after the housing authority's (HA) fiscal year end (FYE) June 30, 2020 and 2021, in accordance with the Single Audit Act and OMB Circular A-133.

Granted By: Dominique Blom, General Deputy Assistant Secretary for Public and Indian Housing.

Date Granted: November 9, 2022.

Reason Waived: The HA is requesting an extension due to the unforeseen circumstances surrounding the termination status of the agency's Auditor, William McCaskill, A Professional Accounting Corporation (APAC) who is no longer on the Louisiana Legislative Approved CPA firms list, and therefore is no longer qualified to conduct the audit. The Agency is requesting an extension until September 30, 2022, due to the arduous process to procure another auditor in time to complete the agency's audit process for FYE June 30, 2020 and 2021. In accordance with 24 CFR 5.110, the request to extend the submission due date and waive 24 CFR 5.801(d)(1) is approved, as the reason provided is considered good cause for a waiver.

Contact: Lara Philbert, Assessment Manager, Office of Public and Indian Housing, 451 Seventh Street SW, Washington, DC 20410, telephone 202-475-8930.

• Regulation: 24 CFR 5.801(c) and 24 CFR 5.801(d)(1).

Project/Activity: Highland Park Housing Commission (MI105).

Nature of Requirement: The regulation establishes certain reporting compliance dates. The audited financial statements are required to be submitted to the Real Estate Assessment Center (REAC) no later than nine months after the housing authority's (HA) fiscal year end FYE September 30, 2020, and 2021, in accordance with the Single Audit Act and OMB Circular A-133.

Granted By: Dominique Blom, General Deputy Assistant Secretary for Public and Indian Housing.

Date Granted: November 9, 2022.

Reason Waived: The HA contends that the prior board members failed to procure audit services on time, and the HA could not secure another audit contract until December 8, 2021. Further the HA states that there was great difficulty securing responses to a Request for Proposal for audit services. In accordance with 24 CFR 5.110, the request to extend the submission due date and waive 24 CFR 5.801(d)(1) is approved, as the reason provided is considered good cause for a waiver.

Contact: Lara Philbert, Assessment Manager, Office of Public and Indian Housing, 451 Seventh Street SW, Washington, DC 20410, telephone 202-475-8930.

• Regulation: 24 CFR 5.801(c) and 24 CFR 5.801(d)(1).

Project/Activity: Bogalusa Housing Authority (LA024).

Nature of Requirement: The regulation establishes certain reporting compliance dates. The audited financial statements are required to be submitted to the Real Estate Assessment Center (REAC) no later than nine months after the housing authority's (HA) fiscal year end FYE September 30, 2020, in accordance with the Single Audit Act and OMB Circular A-133.

Granted By: Dominique Blom, General Deputy Assistant Secretary for Public and Indian Housing.

Date Granted: November 9, 2022.

Reason Waived: The Agency is requesting an extension due to the unforeseen circumstances surrounding the termination status of the agency's Auditor, William McCaskill, A Professional Accounting Corporation (APAC) who is no longer on the Louisiana Legislative Approved CPA firms list, and therefore is no longer qualified to conduct the audit. The Agency is requesting an extension until June 30, 2022, due to the arduous process to procure another auditor in time to complete the agency's audit process for FYE September 30, 2020. In accordance with 24 CFR 5.110, the request to extend the submission due date and waive 24 CFR 5.801(d)(1) is approved, as the reason provided is considered good cause for a waiver.

Contact: Lara Philbert, Assessment Manager, Office of Public and Indian Housing, 451 Seventh Street SW, Washington, DC 20410, telephone 202-475-8930.

• Regulation: 24 CFR 5.801(c) and 24 CFR 5.801(d)(1).

Project/Activity: Housing Authority of the Town of St. Martinville (LA040).

Nature of Requirement: The regulation establishes certain reporting compliance dates. The audited financial statements are required to be submitted to the Real Estate Assessment Center (REAC) no later than nine months after the housing authority's (HA) fiscal year end FYE March 31, 2021, in accordance with the Single Audit Act and OMB Circular A-133.

Granted By: Dominique Blom, General Deputy Assistant Secretary for Public and Indian Housing.

Date Granted: November 9, 2022.

Reason Waived: The Agency is requesting an extension due to the unforeseen circumstances surrounding the termination status of the agency's Auditor, William McCaskill, A Professional Accounting Corporation (APAC) who is no longer on the Louisiana Legislative Approved CPA firms list, and therefore is no longer qualified to conduct the audit. The Agency is requesting an extension until September 30, 2022, due to the arduous process to procure another auditor in time to complete the agency's audit process for FYE March 31, 2021. In accordance with 24 CFR 5.110, the request to extend the submission due date and waive 24 CFR 5.801(d)(1) is approved, as the reason provided is considered good cause for a waiver.

Contact: Lara Philbert, Assessment Manager, Office of Public and Indian Housing, 451 Seventh Street SW, Washington, DC 20410, telephone 202-475-8930.

• Regulation: 24 CFR 5.801(c) and 24 CFR 5.801(d)(1).

Project/Activity: Donaldsonville Housing Authority (LA043).

Nature of Requirement: The regulation establishes certain reporting compliance dates. The audited financial statements are required to be submitted to the Real Estate Assessment Center (REAC) no later than nine months after the housing authority's (HA) fiscal year end FYE December 31, 2020, in accordance with the Single Audit Act and OMB Circular A-133.

Granted By: Dominique Blom, General Deputy Assistant Secretary for Public and Indian Housing.

Date Granted: November 9, 2022.

Reason Waived: The Agency is requesting an extension due to the unforeseen circumstances surrounding the termination status of the agency's Auditor, William McCaskill, A Professional Accounting Corporation (APAC) who is no longer on the Louisiana Legislative Approved CPA firms list, and therefore is no longer qualified to conduct the audit. The Agency is requesting an extension until September 30, 2022, due to the arduous process to procure another auditor in time to complete the agency's audit process for FYE December 31, 2020. In accordance with 24 CFR 5.110, the request to extend the submission due date and waive 24 CFR 5.801(d)(1) is approved, as the reason provided is considered good cause for a waiver.

Contact: Lara Philbert, Assessment Manager, Office of Public and Indian Housing, 451 Seventh Street SW, Washington, DC 20410, telephone 202-475-8930.

• Regulation: 24 CFR 5.801(c) and 24 CFR 5.801(d)(1).

Project/Activity: Thibodaux Housing Authority (LA044).

Nature of Requirement: The regulation establishes certain reporting compliance dates. The audited financial statements are required to be submitted to the Real Estate Assessment Center (REAC) no later than nine months after the housing authority's (HA) fiscal year end FYE December 31, 2020, in accordance with the Single Audit Act and OMB Circular A-133.

Granted By: Dominique Blom, General Deputy Assistant Secretary for Public and Indian Housing.

Date Granted: November 9, 2022.

Reason Waived: The Agency is requesting an extension due to the unforeseen circumstances surrounding the termination status of the agency's Auditor, William McCaskill, A Professional Accounting Corporation (APAC) who is no longer on the Louisiana Legislative Approved CPA firms list, and therefore is no longer qualified to conduct the audit. The Agency is requesting an extension until September 30, 2022, due to the arduous process to procure another auditor in time to complete the agency's audit process for FYE December 31, 2020. In accordance with 24 CFR 5.110, the request to extend the submission due date and waive 24 CFR 5.801(d)(1) is approved, as the reason provided is considered good cause for a waiver.

Contact: Lara Philbert, Assessment Manager, Office of Public and Indian Housing, 451 Seventh Street SW, Washington, DC 20410, telephone 202-475-8930.

• Regulation: 24 CFR 5.801(c) and 24 CFR 5.801(d)(1).

Project/Activity: Berwick Housing Authority (LA056).

Nature of Requirement: The regulation establishes certain reporting compliance dates. The audited financial statements are required to be submitted to the Real Estate Assessment Center (REAC) no later than nine months after the housing authority's (HA) fiscal year end FYE December 31, 2020, in accordance with the Single Audit Act and OMB Circular A-133.

Granted By: Dominique Blom, General Deputy Assistant Secretary for Public and Indian Housing.

Date Granted: November 9, 2022.

Reason Waived: The Agency is requesting an extension due to the unforeseen circumstances surrounding the termination status of the agency's Auditor, William McCaskill, A Professional Accounting Corporation (APAC) who is no longer on the Louisiana Legislative Approved CPA firms list, and therefore is no longer qualified to conduct the audit. The Agency is requesting an extension until June 30, 2022, due to the arduous process to procure another auditor in time to complete the agency's audit process for FYE December 31, 2020. In accordance with 24 CFR 5.110, the request to extend the submission due date and waive 24 CFR 5.801(d)(1) is approved, as the reason provided is considered good cause for a waiver.

Contact: Lara Philbert, Assessment Manager, Office of Public and Indian Housing, 451 Seventh Street SW, Washington, DC 20410, telephone 202-475-8930.

• Regulation: 24 CFR 5.801(c) and 24 CFR 5.801(d)(1).

Project/Activity: Grambling Housing Authority (LA097).

Nature of Requirement: The regulation establishes certain reporting compliance dates. The audited financial statements are required to be submitted to the Real Estate Assessment Center (REAC) no later than nine months after the housing authority's (HA) fiscal year end FYE September 30, 2021, in accordance with the Single Audit Act and OMB Circular A-133.

Granted By: Dominique Blom, General Deputy Assistant Secretary for Public and Indian Housing.

Date Granted: November 9, 2022.

Reason Waived: The Agency is requesting an extension due to the unforeseen circumstances surrounding the termination status of the agency's Auditor, William McCaskill, A Professional Accounting Corporation (APAC) who is no longer on the Louisiana Legislative Approved CPA firms list, and therefore is no longer qualified to conduct the audit. The Agency is requesting an extension until September 30, 2022, due to the arduous process to procure another auditor in time to complete the agency's audit process for FYE September 30, 2021. In accordance with 24 CFR 5.110, the request to extend the submission due date and waive 24 CFR 5.801(d)(1) is approved, as the reason provided is considered good cause for a waiver.

Contact: Lara Philbert, Assessment Manager, Office of Public and Indian Housing, 451 Seventh Street SW, Washington, DC 20410, telephone 202-475-8930.

• Regulation: 24 CFR 5.801(c) and 24 CFR 5.801(d)(1).

Project/Activity: Independence Housing Authority (LA099).

Nature of Requirement: The regulation establishes certain reporting compliance dates. The audited financial statements are required to be submitted to the Real Estate Assessment Center (REAC) no later than nine months after the housing authority's (HA) fiscal year end FYE September 30, 2021, in accordance with the Single Audit Act and OMB Circular A-133.

Granted By: Dominique Blom, General Deputy Assistant Secretary for Public and Indian Housing.

Date Granted: November 9, 2022.

Reason Waived: The Agency is requesting an extension due to the unforeseen circumstances surrounding the termination status of the agency's Auditor, William McCaskill, A Professional Accounting Corporation (APAC) who is no longer on the Louisiana Legislative Approved CPA firms list, and therefore is no longer qualified to conduct the audit. The Agency is requesting an extension until September 30, 2022, due to the arduous process to procure another auditor in time to complete the agency's audit process for FYE September 30, 2021. In accordance with 24 CFR 5.110, the request to extend the submission due date and waive 24 CFR 5.801(d)(1) is approved, as the reason provided is considered good cause for a waiver.

Contact: Lara Philbert, Assessment Manager, Office of Public and Indian Housing, 451 Seventh Street SW, Washington, DC 20410, telephone 202-475-8930.

• Regulation: 24 CFR 5.801(c) and 24 CFR 5.801(d)(1).

Project/Activity: Fenton Housing Authority (LA261).

Nature of Requirement: The regulation establishes certain reporting compliance dates. The audited financial statements are required to be submitted to the Real Estate Assessment Center (REAC) no later than nine months after the housing authority's (HA) fiscal year end FYE December 31, 2020, in accordance with the Single Audit Act and OMB Circular A-133.

Granted By: Dominique Blom, General Deputy Assistant Secretary for Public and Indian Housing.

Date Granted: November 9, 2022.

Reason Waived: The Agency is requesting an extension due to the unforeseen circumstances surrounding the termination status of the agency's Auditor, William McCaskill, A Professional Accounting Corporation (APAC) who is no longer on the Louisiana Legislative Approved CPA firms list, and therefore is no longer qualified to conduct the audit. The Agency is requesting an extension until September 30, 2022, due to the arduous process to procure another auditor in time to complete the agency's audit process for FYE December 31, 2020. In accordance with 24 CFR 5.110, the request to extend the submission due date and waive 24 CFR 5.801(d)(1) is approved, as the reason provided is considered good cause for a waiver.

Contact: Lara Philbert, Assessment Manager, Office of Public and Indian Housing, 451 Seventh Street SW, Washington, DC 20410, telephone 202-475-8930.

• Regulation: SEMAP 24 CFR 985 (60 day submission rule).

Project/Activity: Regional Housing Authority (RHA-CA048) requests waiver of the Section Eight Management Assessment Program (SEMAP) regulation, 24 CFR 985.101(a)

Nature of Requirement: This regulation states that a public housing agency (PHA) must submit the Department of Housing and Urban Development (HUD) required SEMAP certification form within 60 calendar days after the end of its fiscal year. The PHA's fiscal year ended on March 31, 2022; the SEMAP certification was due on or before May 30, 2022.

Granted By: Dominique Blom, General Deputy Assistant Secretary for Public and Indian Housing.

Date Granted: November 10, 2022.

Reason Waived: On May 31, 2022, the RHA attempted to submit its SEMAP certification but was denied access due to late submission. You stated that your agency was going through its financial audit the week prior to the submission deadline. As a result, the staff was unavailable to submit the SEMAP certification due to their time being occupied by the auditors. In addition, you mentioned that the office was closed for Memorial Day on May 30, 2022, and that the COVID-19 pandemic caused staff shortage (which also contributed to the late submission).

Contact: Michelle Daniels, Housing Program Specialist, Office of Public and Indian Housing, 451 Seventh Street SW, Washington, DC 20410, telephone 202-402-6051.

• Regulation: HCV Regulations at 24 CFR 982.

Project/Activity: Allegheny County Housing Authority (ACHA).

Nature of Requirement: The ACHA seeks exception 24 CFR 982.503(C)(3) which would allow the HA to adopt payment standards about 120 percent of the Small Area Fair Market Rent. ACHA asserts this approval is necessary to prevent financial hardship for families as current payment standards in high priority neighborhoods are not adequate, and families that move under the HUD demonstration would otherwise experience significant rent burdens.

Granted By: Dominique Blom, General Deputy Assistant Secretary for Public and Indian Housing.

Date Granted: November 30, 2022.

Reason Waived: ACHA has provided good cause for waiving 24 CFR 982.503(b)(1)(iv). In order to achieve the goals of the Community Choice Demonstration, and to provide access to low-poverty neighborhoods for families in their voucher program, ACHA needs to establish exception payment standards over 110 percent of the SAFMR, where justified by statistically representative housing survey data.

Contact: Brendan C. Goodwin, Housing Program Specialist, Office of Public and Indian Housing, 451 Seventh Street SW, Washington, DC 20410, telephone 202- 402-6050.

• Regulation: CFR 982.517(b)(1) and 24 CFR 983.301(f)(2)(ii).

Project/Activity: The Housing Commission of Talbot (HCT).

Nature of Requirement: The Housing Commission of Talbot (HCT), has submitted a request to waive 24 CFR 982.517(b)(1) and 24 CFR 983.301(f)(2)(ii), which require that the utility schedule be determined based on the typical cost of utilities and services paid by energy conservative households that occupy housing of a similar size and type in the same locality, and prohibits PHAs from establishing or applying different utility allowance amounts for the PBV program as the same utility allowance schedule applies to both tenant-based vouchers and project-based vouchers. For HUD to consider such a waiver, the public housing agency (PHA) should submit: (a) an analysis of utility rates for the community; (b) an estimate of energy consumption that will take place at the newly constructed site; and (c) a proposed alternative methodology for calculating utility allowances on an ongoing basis.

Granted By: Dominique Blom, General Deputy Assistant Secretary for Public and Indian Housing.

Date Granted: November 30, 2022.

Reason Waived: The information submitted to HUD by HCT supports its request. The HCT has submitted an analysis of utility rates for the community andan estimate of the energy consumption that will take place at the newly constructed site. Due to the energy efficient systems being built at the Doverbrook Apartments, the community consumption estimates are significantly higher than the consumption expected at the site. Therefore, since HCT has demonstrated that the utility allowance provided under the HCV program would discourage conservation and ultimately lead to inefficient use of HAP funds at the Doverbrook Apartments, I have determined that there is good cause to waive 24 CFR 983.301(f)(2)(ii) and 24 CFR 982.517.

Contact: Nathaniel Johnson, Housing Program Specialist, Office of Public and Indian Housing, 451 Seventh Street SW, Washington, DC 20410, telephone 202-402-5156.

• Regulation: SEMAP 24 CFR 985 (60 day submission rule).

Project/Activity: Municipal Housing Agency of Council Bluff's requests approval for SEMAP late submitter waiver pursuant to the 60 day submission rule codified in 24 CFR 985.

Nature of Requirement: This regulation states that a public housing agency (PHA) must submit the Department of Housing and Urban Development (HUD) required SEMAP certification form within 60 calendar days after the end of its fiscal year. The PHA's fiscal year ended on December 31, 2021; the SEMAP certification was due on or before March 1, 2022.

Granted By: Dominique Blom, General Deputy Assistant Secretary for Public and Indian Housing.

Date Granted: December 5, 2022.

Reason Waived: On February 25, 2022, the MHACB submitted its SEMAP on time but failed to complete the online certification due to difficulty entering the data into the PIC system. The agency's request states that they experienced challenges due to their SEMAP contact being new to the process and that they made efforts to reach out to HUD to address the issue.

Contact: Michelle Daniels, Housing Program Specialist, Office of Public and Indian Housing, 451 Seventh Street SW, Washington, DC 20410, telephone 202-402-6051.

• Regulation: 24 CFR 982.161(a).

Project/Activity: any employee of the public housing authority (PHA) who formulates policy or who influences decisions with respect to the programs, may not have any direct or indirect interest in the housing assistance program (HAP) contract or in any benefits or payments under the contract during tenure or one year thereafter.

Nature of Requirement: The regulation at 24 CFR 982.161(c), and the HAP contract, allows the conflict of interest to be waived by the Department of Housing and Urban Development (HUD) for good cause.

Granted By: Dominique Blom, General Deputy Assistant Secretary for Public and Indian Housing.

Date Granted: December 14, 2022.

Reason Waived: Upon resignation, Mr. Hankerson would like to continue participating in the HCV program as a landlord without waiting the one-year period outlined in Section 13 of the HAP contract and § 982.161(a). OHA has stated that Mr. Hankerson's participation is essential because the city of Oakland's housing supply is extremely limited and terminating the HAP contracts would result in the unfair displacement of the two HCV participants living in an area where it would be difficult to locate and obtain other HCV eligible units.

Contact: Kristen Arnold, Housing Programs Specialist, Office of Public and Indian Housing, 451 Seventh Street SW, Washington, DC 20410, telephone 971-222-2667.

• Regulation: 24 CFR 982.161(a).

Project/Activity: Carbondale Housing Authority's (CHA) request for waiver of Housing Choice Voucher (HCV) regulations at 24 CFR 982.161(a), which states, in part, that any public official, member of a governing body, or State or local legislator who exercises functions or responsibilities with respect to the programs, may not have any direct or indirect interest in the housing assistance program (HAP) contract or in any benefits or payments under the contract during tenure or one year thereafter.

Nature of Requirement: The regulation at 24 CFR 982.161(c), and the HAP contract, allows the conflict of interest to be waived by the Department of Housing and Urban Development (HUD) for good cause.

Granted By: Dominique Blom, General Deputy Assistant Secretary for Public and Indian Housing.

Date Granted: December 14, 2022.

Reason Waived: Per the request, Mr. Justin Taylor, Mayor of Carbondale, owns the unit where Mr. Jerry Thomas currently resides (and was living) when he was issued a Housing Choice Voucher (HCV) in February of 2022. CHA became aware of the conflict in March of 2022 (after the HAP was executed) and when Mayor Taylor informed their HCV coordinator of the situation. At the time the voucher was issued, the HCV coordinator was unaware of a potential conflict, as the rental property was listed in Mayor Taylor's business name. As Mayor, Mr. Taylor recommends candidates to serve on the board of the CHA, the city council approves the appointments, and the mayor does not have any functions or duties related to the administration of the HCV program.

Contact: Kristen Arnold, Housing Programs Specialist, Office of Public and Indian Housing, 451 Seventh Street SW, Washington, DC 20410, telephone 971-222-2667.

• Regulation: 24 CFR 5.801(d)(1).

Project/Activity: Cincinnati Metropolitan Housing Authority (OH004) (CMHA).

Nature of Requirement: The regulation establishes certain reporting compliance dates. The audited financial statements are required to be submitted to the Real Estate Assessment Center (REAC) no later than nine months after the housing authority's (HA) fiscal year end FYE June 30, 2021, in accordance with the Single Audit Act and OMB Circular A-133.

Granted By: Dominique Blom, General Deputy Assistant Secretary for Public and Indian Housing.

Date Granted: December 22, 2022.

Reason Waived: CMHA exerts that its contracted auditor, Plante & Moran, PLLC, amended its contract due date to the auditor's staffing issues. The amended agreement due date is after the HUD submission due date and will cause CMHA to receive an LPF and zero points in the FASS scoring. This situation is beyond the control of the authority. In accordance with 24 CFR 5.110, the request to extend the submission due date and waive 24 CFR 5.801(d)(1) is approved, as the reason provided is considered good cause for a waiver. The circumstance preventing the Agency from submitting its audited financial information on time is acceptable. Therefore, CMHA is granted an additional sixty days from the extended due date of September 30, 2022. CMHA has until November 30, 2022, to complete and submit its FYE June 30, 2021, audited financial information to the Department.

Contact: Laura Philbert, Housing Programs Specialist, Office of Public and Indian Housing, 451 Seventh Street SW, Washington, DC 20410, telephone 202-475-8930.

• Regulation: 24 CFR 5.801(d)(1).

Project/Activity: Salem Housing Authority (OR011) (SHA).

Nature of Requirement: The regulation establishes certain reporting compliance dates. The audited financial statements are required to be submitted to the Real Estate Assessment Center (REAC) no later than nine months after the housing authority's (HA) fiscal year end FYE September 30, 2021, in accordance with the Single Audit Act and OMB Circular A-133.

Granted By: Dominique Blom, General Deputy Assistant Secretary for Public and Indian Housing.

Date Granted: December 22, 2022.

Reason Waived: SHA seeks to be waived from its FYE September 30, 2021, audited financial reporting requirements, pursuant to 24 CFR 5.801(d)(1). SHA contends their previous auditor terminated their working relationship, which forced SHA to submit a Request for Proposal (RFP) to seek a new firm to handle both the ongoing 2020 and 2021 audits. COVID delayed this process and both the new auditing firm and SHA experienced difficulties completing the audits from scratch even with the extended deadlines. The new firm has only just begun engaging SHA in completing the 2021 audit. The circumstances preventing the Agency from submitting its audited financial information on time is acceptable. Accordingly, the Agency is granting a submission due date of September 30, 2022, to complete and submit its audited financial statements to the Department for FYE September 30, 2021.

Contact: Laura Philbert, Housing Programs Specialist, Office of Public and Indian Housing, 451 Seventh Street SW, Washington, DC 20410, telephone 202-475-8930.

• Regulation: 24 CFR 5.801(d)(1).

Project/Activity: Athens Metropolitan Housing Authority (AMHA041) (AMHA).

Nature of Requirement: The regulation establishes certain reporting compliance dates. The audited financial statements are required to be submitted to the Real Estate Assessment Center (REAC) no later than nine months after the housing authority's (HA) fiscal year end FYE December 31, 2021, in accordance with the Single Audit Act and OMB Circular A-133.

Granted By: Dominique Blom, General Deputy Assistant Secretary for Public and Indian Housing.

Date Granted: December 22, 2022.

Reason Waived: AMHA seeks to be waived from its fiscal year end (FYE) December 31, 2021, audited financial reporting requirements according to 24 CFR 5.801(d)(1). AMHA stated their office is within a high-risk COVID area due to extended sick leave, and recovery times have severely affected their operations. As a small PHA with twelve employees, having multiple employees with COVID simultaneously has caused a hardship for AMHA to maintain its daily operation and provide information for the IPA audit. In accordance with 24 CFR 5.110, the request to extend the submission due date and waive 24 CFR 5.801(d)(1) is approved, as the reason provided is considered good cause for a waiver. The circumstance preventing the Agency from submitting its audited financial information on time is acceptable. Therefore, the AMHA is granted an additional sixty days from the extended due date of September 30, 2022. The AMHA has until November 30, 2022, to complete and submit its FYE December 31, 2021, audited financial information to the Department.

Contact: Laura Philbert, Housing Programs Specialist, Office of Public and Indian Housing, 451 Seventh Street SW, Washington, DC 20410, telephone 202-475-8930.

• Regulation: 24 CFR 5.801(d)(1).

Project/Activity: West Carthage Housing Authority (NY414) (WCHA).

Nature of Requirement: The regulation establishes certain reporting compliance dates. The audited financial statements are required to be submitted to the Real Estate Assessment Center (REAC) no later than nine months after the housing authority's (HA) fiscal year end FYE September 30, 2020, and its fiscal year ending on September 30, 2021, in accordance with the Single Audit Act and OMB Circular A-133.

Granted By: Dominique Blom, General Deputy Assistant Secretary for Public and Indian Housing.

Date Granted: December 22, 2022.

Reason Waived: For WCHA's fiscal year ending on September 30, 2020, and its fiscal year ending on September 30, 2021, WCHA seeks to be waived from its FYE audited financial reporting requirements, pursuant to 24 CFR 5.801(d)(1). The WCHA's former executive director was unresponsive for several months and resigned her position after the Wilna Housing Authority (WHA), a neighboring housing authority, intervened to engage WCHA's board. WCHA is now under an interagency agreement with WHA. The circumstances preventing the Agency from submitting its audited financial statements on time is acceptable. Accordingly, the Agency is granting a submission due date of December 31, 2022, to complete and submit its audited financial statements to the Department for FYE September 30, 2020, and September 30, 2021.

Contact: Laura Philbert, Housing Programs Specialist, Office of Public and Indian Housing, 451 Seventh Street SW, Washington, DC 20410, telephone 202-475-8930.

• Regulation: 24 CFR 5.801(d)(1).

Project/Activity: Mobile Housing Authority (AL002).

Nature of Requirement: The regulation establishes certain reporting compliance dates. The audited financial statements are required to be submitted to the Real Estate Assessment Center (REAC) no later than nine months after the housing authority's (HA) fiscal year end FYE December 31, 2021, in accordance with the Single Audit Act and OMB Circular A-133.

Granted By: Dominique Blom, General Deputy Assistant Secretary for Public and Indian Housing.

Date Granted: December 22, 2022.

Reason Waived: The Agency contends that it has incurred some challenges due to circumstances beyond its control, such as a lack of financial staff and management changes that resulted in incomplete accounting records that impacted the auditor's ability to reconcile and evaluate prior years' financials. The Agency contends their Finance Department experienced significant turnovers in 2018, 2019, and 2020, including the Chief Executive, the retirement of the long-tenured Chief Financial Officer, the Deputy Controller, and two Senior Accountants. The Agency contends their financial contractor found several account balances inaccurate, and certain records and data to substantiate these balances are stored in various locations. The Agency claims they encountered issues during the procurement process to ensure procuring a qualified auditor that could adequately audit their financial data. The Agency contends the loss of various personnel challenges has impacted their ability to move forward with the audit as planned. The Agency requests a waiver to extend the due date for the Audited FDS Submission for FYE to December 31, 2021, with a reporting date of September 30, 2022. In accordance with 24 CFR 5.110, the request to extend the submission due date and waive 24 CFR 5.801(d)(1) is approved, as the reason provided is considered good cause for a waiver. Accordingly, the Agency has been granted an extended due date to February 20, 2023.

Contact: Laura Philbert, Housing Programs Specialist, Office of Public and Indian Housing, 451 Seventh Street SW, Washington, DC 20410, telephone 202-475-8930.

• Regulation: 24 CFR 982.505(c)(4) Increase in Payment Standard During Housing Assistance Payment (HAP) Contract Term.

Project/Activity: Notice PIH 2022-30 Extension of Certain Regulatory Waivers for the Housing Choice Voucher (including Mainstream) Program and Streamlined Review Process.

Nature of Requirement: PHAs may request an extension of the option to increase the payment standard for the family at any time after the effective date of the increase, rather than waiting for the next regular reexamination.

Reason Waived: Extension for PHAs that were granted to the opportunity to apply for certain regulatory waivers that were originally offered as part of the CARES Act waivers in Notice PIH 2021-14 to provide continued flexibility during the pandemic and pandemic recovery. HUD expeditiously responded to these waiver request in accordance with Section 106 of the Department of Housing and Urban Development Reform Act of 1989.

Granted by: Dominique Blom, General Deputy Assistant for Public and Indian Housing.

Date Granted: October 1, 2022-December 31, 2022.

Contact: Tesia Anyanaso, Office of Field Operations/Coordination and Compliance Division, Office of Public and Indian Housing, 451 Seventh St. SW, Suite 3180, Washington, DC 20410-5000, or email to PIH_Expedited_Waivers@hud.gov.

Housing Authority of the Birmingham District | 12/12/2022
Housing Authority of the City of Jasper | 12/5/2022
The Housing Authority of the City of Huntsville | 12/23/2022
Housing Authority of the City of Decatur | 10/24/2022
Enterprise Housing Authority | 12/14/2022
Walker County Housing Authority | 10/19/2022
The Housing Authority of the City of Prichard | 10/4/2022
Mobile County Housing Authority | 12/20/2022
Pike County Housing Authority | 11/29/2022
City of Phoenix Housing Department | 12/6/2022
City of Mesa Housing Authority | 11/14/2022
Winslow Public Housing Authority | 10/25/2022
Housing Authority of Maricopa County | 11/1/2022
Tempe Housing Authority | 11/21/2022
Scottsdale Housing Agency | 10/16/2022
Housing Authority of the City & County of Sf | 10/16/2022
Housing Authority of the County of Los Angeles | 10/19/2022
Oakland Housing Authority | 12/23/2022
Housing Authority of the City of Los Angeles | 10/15/2022
Housing Authority City of Fresno | 10/15/2022
County of Sacramento Housing Authority | 10/5/2022
County of Stanislaus Housing Authority | 10/15/2022
Housing Authority of the County of Riverside | 11/15/2022
Housing Authority of Fresno County | 10/15/2022
Housing Authority of the County of Yolo | 11/14/2022
Kings County Housing Auth | 10/4/2022
City of Berkeley Housing Authority | 10/15/2022
Housing Authority of the City of San Luis Obispo | 10/25/2022
Suisun City Housing Authority | 12/22/2022
The Housing Authority of the City of Madera | 11/10/2022
Santa Cruz County Housing Authority | 10/26/2022
Housing Authority of the City of Santa Barbara | 11/28/2022
Mendocino County | 10/16/2022
County of Sonoma | 10/25/2022
Housing Authority of the County of Ventura | 11/10/2022
Orange County Housing Authority | 11/28/2022
County of Shasta Housing Authority | 11/14/2022
Housing Authority of the County of San Diego | 12/27/2022
Housing Authority of Culver City | 10/25/2022
CDC of National City | 10/26/2022
Housing Authority of the City of Torrance | 10/26/2022
Lake County Housing Commission | 12/15/2022
Comm Service Dept El Dorado County | 11/4/2022
Housing Authority of the City of Pueblo | 11/7/2022
Delta Housing Authority | 12/9/2022
Englewood Housing Authority | 11/28/2022
Sheridan Housing Authority | 11/28/2022
Garfield County Housing Authority | 11/3/2022
Colorado Division of Housing | 12/22/2022
Housing Authority of the City of Hartford | 10/25/2022
Middletown Housing Authority | 10/19/2022
Willimantic Housing Authority | 11/21/2022
Milford Redevelopment and Housing Partnership | 11/1/2022
Portland Housing Authority | 12/14/2022
Newark Housing Authority | 10/26/2022
Housing Authority of the City of Cocoa | 10/26/2022
Ocala Housing Authority | 12/5/2022
Housing Authority of the City of Fort Myers | 11/28/2022
Clearwater Housing Authority | 12/20/2022
City of Pensacola Department of Housing | 10/15/2022
Walton County Housing Authority | 12/8/2022
Hendry County Housing Authority | 12/22/2022
Housing Authority of Savannah | 12/22/2022
Housing Authority of the City of Newnan | 10/16/2022
Davenport Housing Commission | 12/9/2022
Southern Iowa Regional Housing Authority | 10/15/2022
Northwest Iowa Regional Housing Authority | 10/15/2022
Boise City Housing Authority | 11/10/2022
Southwestern Idaho Cooperative Housing Authority | 11/15/2022
Ada County Housing Authority | 11/10/2022
Peoria Housing Authority | 11/18/2022
Housing Authority of Elgin | 10/27/2022
Housing Authority of East Peoria | 12/9/2022
Delaware County Housing Authority | 10/26/2022
Housing Authority of the City of Muncie | 11/22/2022
Housing Authority of the City of Anderson | 10/19/2022
Housing Authority of the City of Gary | 10/31/2022
Housing Authority of the City of Michigan City | 11/25/2022
Housing Authority of the City of Bloomington | 10/16/2022
Housing Authority of the City of East Chicago | 10/31/2022
Brazil Housing Authority | 10/15/2022
Knox County Housing Authority | 11/30/2022
Housing Authority of the City of Lafayette | 10/27/2022
Housing Authority of the City of Elwood | 12/15/2022
Housing Authority of the City of Logansport | 12/14/2022
Housing Authority of the County of St. Joseph | 11/10/2022
Wichita Housing Authority | 10/6/2022
Salina Housing Authority | 10/15/2022
Great Bend Housing Authority | 11/2/2022
Ford County Housing Authority | 12/21/2022
Housing Authority of the City of Kenner | 10/15/2022
St. John the Baptist Parish Housing Authority | 12/9/2022
New Bedford Housing Authority | 10/4/2022
Chelsea Housing Authority | 11/14/2022
Falmouth Housing Authority | 12/22/2022
Stockbridge Housing Authority | 10/15/2022
Department of Housing & Community Development | 10/14/2022
Hagerstown Housing Authority | 12/22/2022
Harford County Housing Agency | 10/15/2022
Housing Authority of Washington County | 10/4/2022
Carroll County Housing and Community Development | 12/15/2022
Portland Housing Authority | 11/29/2022
Brunswick Housing Authority | 10/15/2022
Ellsworth Housing Authority | 11/3/2022
Maine State Housing Authority | 10/4/2022
Detroit Housing Commission | 11/28/2022
Ann Arbor Housing Commission | 10/15/2022
Grand Rapids Housing Commission | 11/18/2022
HRA of Red Wing, Minnesota | 10/26/2022
Housing Authority of the City of St. Charles | 12/14/2022
Independence Housing Authority | 10/15/2022
Housing Authority of the City of Sedalia, MO | 11/15/2022
Housing Authority of the City of Joplin, MO | 11/14/2022
Boone County Public Housing Agency | 12/23/2022
Lincoln County Public Housing Agency | 10/26/2022
Liberty Housing Authority | 11/30/2022
Howell County Public Housing Agency | 10/17/2022
Housing Assistance Prog of St Charles County | 11/18/2022
The Housing Authority of the City of Biloxi | 11/14/2022
Housing Authority of Billings | 11/2/2022
Missoula Housing Authority | 10/4/2022
Montana Department of Commerce | 11/2/2022
Housing Authority of the City of Wilmington | 11/3/2022
Housing Authority of the City of Asheville | 12/23/2022
Housing Authority of the City of Winston-Salem | 10/4/2022
Columbus County Public Housing Agency | 12/12/2022
Western Piedmont Council of Governments | 10/4/2022
Housing Authority of Stutsman County, ND | 10/15/2022
Fargo Housing and Redevelopment Authority | 11/8/2022
McHenry/Pierce County Housing Authority | 12/15/2022
Portsmouth Housing Authority | 10/16/2022
Laconia Housing & Redevelopment Authority | 10/31/2022
Housing Authority of the City of Rochester NH | 12/23/2022
Lebanon Housing Authority | 10/24/2022
Harbor Homes, Inc | 10/16/2022
New Hampshire Housing Finance Agency | 10/19/2022
City of Albuquerque Housing Authority | 12/14/2022
Nevada Rural Housing Authority | 11/28/2022
Cortland Housing Authority | 10/5/2022
Rochester Housing Authority | 11/3/2022
Town of Islip Housing Authority | 11/18/2022
New Rochelle Housing Authority | 12/23/2022
Village of Ossining Section 8 Program | 11/8/2022
Village of Fairport | 11/28/2022
Cuyahoga Metropolitan Housing Authority | 12/20/2022
Dayton Metropolitan Housing Authority | 12/14/2022
Lucas Metropolitan Housing Authority | 11/21/2022
Akron Metropolitan Housing Authority | 11/15/2022
Zanesville Metropolitan Housing Authority | 12/20/2022
Mansfield Metropolitan Housing Authority | 12/5/2022
Belmont Metropolitan Housing Authority | 11/4/2022
Greene Metropolitan Housing Authority | 11/7/2022
Lake Metropolitan Housing Authority | 11/30/2022
Columbiana Metropolitan Housing Authority | 10/25/2022
Erie Metropolitan Housing Authority | 11/15/2022
Ashtabula Metropolitan Housing Authority | 11/28/2022
Huron Metropolitan Housing Authority | 12/5/2022
Cambridge Metropolitan Housing Authority | 12/15/2022
Perry County Metropolitan Housing Authority | 11/8/2022
Coshocton Metropolitan Housing Authority | 10/5/2022
Crawford Metropolitan Housing Authority | 12/5/2022
Adams Metropolitan Housing Authority | 11/14/2022
Gallia Metropolitan Housing Authority | 11/28/2022
Sandusky Metropolitan Housing Authority | 11/15/2022
Monroe Metropolitan Housing Authority | 12/14/2022
Pike Metropolitan Housing Authority | 10/25/2022
Miami Metropolitan Housing Authority | 12/1/2022
Seneca Metropolitan Housing Authority | 12/5/2022
Marion Metropolitan Housing Authority | 11/28/2022
Delaware Metropolitan Housing Authority | 11/28/2022
Housing Authority of Yamhill County | 10/4/2022
Coos-Curry Housing Authority | 11/21/2022
Mid-Columbia Housing Authority | 12/15/2022
Housing Authority of Malheur County | 10/20/2022
Allentown Housing Authority | 12/20/2022
Bethlehem Housing Authority | 10/6/2022
Housing Authority County of Delaware | 11/14/2022
Wilkes Barre Housing Authority | 10/25/2022
Housing Authority of the County of Lebanon | 11/14/2022
Housing Authority of the County of Luzerne | 10/4/2022
Housing Authority of the County of Berks | 10/15/2022
The Housing Authority of the City of Newport | 10/24/2022
Johnston Housing Authority | 11/2/2022
Cumberland Housing Authority | 10/27/2022
West Warwick Housing Authority | 12/28/2022
Coventry Housing Authority | 11/3/2022
Bristol Housing Authority | 10/15/2022
Warren Housing Authority | 10/4/2022
Municipality of Aguadilla | 12/14/2022
Municipality of Fajardo | 12/5/2022
Municipality of Gurabo | 12/12/2022
Municipality of Las Marias | 11/2/2022
Municipality of Cidra | 10/19/2022
Housing Authority of Rock Hill | 12/12/2022
Housing Authority of Florence | 11/29/2022
Housing Authority of Greenwood | 11/28/2022
Housing Authority of Cheraw | 11/29/2022
Marlboro Co Housing & Redevelopment Authority | 11/29/2022
Madison Housing and Redevelopment Commission | 10/26/2022
Sioux Falls Housing and Redevelopment Commission | 12/20/2022
Aberdeen Housing & Redevelopment Commission | 10/25/2022
Pierre Housing & Redevelopment Commission | 11/2/2022
Milbank Housing & Redevelopment Commission | 11/14/2022
Canton Housing & Redevelopment Commission | 11/21/2022
Watertown Housing and Redevelopment Commission | 11/21/2022
Meade County Housing and Redevelopment Commission | 10/17/2022
Lawrence County Housing & Redevelopment Commission | 10/17/2022
Brookings Housing & Redevelopment Commission | 11/14/2022
Mobridge Housing & Redevelopment Commission | 11/14/2022
Butte County Housing Authority | 10/17/2022
Memphis Housing Authority | 10/31/2022
Chattanooga Housing Authority | 11/1/2022
Kingsport Housing and Redevelopment Authority | 12/21/2022
Lafollette Housing Authority | 12/5/2022
Morristown Housing Authority | 10/25/2022
Cleveland Housing Authority | 11/3/2022
Bristol Housing | 10/31/2022
Oak Ridge Housing Authority | 10/15/2022
Tennessee Housing Development Agency | 10/30/2022
Housing Authority of the City of Waco | 11/29/2022
Housing Authority of Port Arthur | 11/1/2022
Housing Authority of the City of Bay City | 11/8/2022
Deep East Texas Council of Governments | 12/6/2022
Housing Authority of the County of Salt Lake | 10/4/2022
Housing Authority of the City of Provo | 11/22/2022
Davis Community Housing Authority | 11/7/2022
Housing Authority of Utah County | 10/19/2022
Roanoke Redevelopment & Housing Authority | 10/4/2022
Vermont State Housing Authority | 10/6/2022
Housing Authority of the City of Bremerton | 10/15/2022
Peninsula Housing Authority | 10/4/2022
Housing Authority City of Longview | 10/25/2022
Housing Authority of the City of Kennewick | 10/5/2022
Columbia Gorge Housing Authority | 12/15/2022
Housing Authority of Grays Harbor County | 10/31/2022
Kitsap County Consolidated Housing Auth | 10/17/2022
Housing Authority of Chelan Co and the City of Wenatchee | 12/6/2022
Housing Authority of Okanogan County | 11/14/2022
Housing Authority of the City of Milwaukee | 12/20/2022
Wisconsin Rapids Housing Authority | 12/20/2022
Brown County Housing Authority | 11/21/2022
Housing Authority of Winnebago County, WI | 10/15/2022
Barron County Housing Authority | 12/5/2022
Chippewa County Housing Authority | 11/15/2022
Housing Authority of the City of Fairmont | 10/5/2022

• Regulation: 24 CFR 982.503(b) Voucher Tenancy: New Payment Standard Amount.

Project/Activity: Notice PIH 2022ndash;30 Extension of Certain Regulatory Waivers for the Housing Choice Voucher (including Mainstream) Program and Streamlined Review Process.

Nature of Requirement: PHAs may request an extension of expedited waiver(s) to allow for establishment of payment standards from 111 to 120 percent of the FMR.

Reason Waived: Extension for PHAs that were granted to the opportunity to apply for certain regulatory waivers that were originally offered as part of the CARES Act waivers in Notice PIH 2021-14 to provide continued flexibility during the pandemic and pandemic recovery. HUD expeditiously responded to these waiver request in accordance with Section 106 of the Department of Housing and Urban Development Reform Act of 1989.

Granted By: Dominique Blom, General Deputy Assistant for Public and Indian Housing.

Date Granted: October 1, 2022-December 31, 2022.

Contact: Tesia Anyanaso, Public and Indian Housing, Office of Field Operations/Coordination and Compliance Division, 451 7th St. SW, Suite 3180, Washington, DC 20410-5000, or email to PIH_Expedited_Waivers@hud.gov.

PHAs:

Housing Authority of the Birmingham District | 12/12/2022
Mobile Housing Board | 11/2/2022
Housing Authority of the City of Jasper | 12/5/2022
The Housing Authority of the City of Huntsville | 12/21/2022
Housing Authority of the City of Decatur | 10/24/2022
Housing Authority of Auburn | 12/9/2022
Florence Housing Authority | 11/28/2022
Boaz Housing Authority | 11/7/2022
Housing Authority of Tuscaloosa | 10/19/2022
Jefferson County Housing Authority | 10/19/2022
Enterprise Housing Authority | 12/14/2022
Eufaula Housing Authority | 12/1/2022
Walker County Housing Authority | 10/19/2022
The Housing Authority of the City of Prichard | 10/4/2022
South Central Alabama Regional Housing Authority | 12/20/2022
Mobile County Housing Authority | 12/20/2022
NW Regional Housing Authority | 10/15/2022
Lonoke County Housing Authority | 10/17/2022
Pike County Housing Authority | 11/29/2022
Clay County Public Housing Agency | 12/22/2022
City of Phoenix Housing Department | 12/6/2022
City of Mesa Housing Authority | 10/26/2022
Flagstaff Housing Authority | 11/16/2022
Winslow Public Housing Authority | 10/25/2022
Housing Authority of Maricopa County | 11/1/2022
Chandler Housing & Redevelopment Division | 10/25/2022
Scottsdale Housing Agency | 10/16/2022
Housing Authority of Cochise County | 10/27/2022
Yuma City Housing Authority | 12/15/2022
Housing Authority of the City & County of San Francisco | 10/16/2022
Housing Authority of the County of Los Angeles | 10/19/2022
Oakland Housing Authority | 12/22/2022
Housing Authority of the City of Los Angeles | 10/15/2022
Housing Authority City of Fresno | 10/15/2022
County of Sacramento Housing Authority | 10/5/2022
Housing Authority of the County of San Bernardino | 11/2/2022
Housing Authority of the County of Riverside | 11/15/2022
Housing Authority of Fresno County | 10/15/2022
Housing Authority of the County of Yolo | 11/14/2022
Kings County Housing Authority | 10/4/2022
City of Berkeley Housing Authority | 10/15/2022
City of Alameda Housing Authority | 12/23/2022
Housing Authority of the City of San Luis Obispo | 10/25/2022
Suisun City Housing Authority | 12/22/2022
Housing Authority of the City of Santa Barbara | 11/28/2022
Mendocino County | 11/21/2022
County of Sonoma | 10/25/2022
County of Humboldt Housing Authority | 10/15/2022
City of Santa Rosa | 10/15/2022
Orange County Housing Authority | 11/28/2022
County of Shasta Housing Authority | 11/14/2022
City of Anaheim Housing Authority | 11/21/2022
Housing Authority of the City of Burbank | 10/6/2022
Housing Authority of the County of San Diego | 12/27/2022
Housing Authority of Culver City | 10/25/2022
CDC of National City | 10/26/2022
Housing Authority of the City of Baldwin Park | 10/16/2022
Housing Authority of the City of Torrance | 10/26/2022
Lake County Housing Commission | 12/15/2022
Placer County Housing Authority | 10/25/2022
Community Service Department of El Dorado County | 11/4/2022
Housing Authority of the City of Pueblo | 11/7/2022
La Junta Housing Authority | 11/28/2022
Garfield County Housing Authority | 11/3/2022
Otero County Housing Authority | 11/28/2022
Housing Authority of the City of Hartford | 10/25/2022
Stamford Housing Authority | 12/23/2022
Middletown Housing Authority | 10/19/2022
Willimantic Housing Authority | 11/21/2022
Housing Authority of the City of Ansonia | 12/20/2022
Derby Housing Authority | 10/31/2022
Vernon Housing Authority | 12/14/2022
Milford Redevelopment And Housing Partnership | 11/1/2022
South Windsor Housing Authority | 10/31/2022
Portland Housing Authority | 12/14/2022
Housing Authority of the Town of West Hartford | 11/3/2022
Housing Authority of the Town of Glastonbury | 10/31/2022
Newington Housing Authority | 10/31/2022
City of Hartford Housing Authority | 10/31/2022
Fairfield Housing Authority | 12/22/2022
Wethersfield Housing Authority | 11/1/2022
East Haven Housing Authority | 10/31/2022
Wallingford Housing Authority | 10/25/2022
Canton Housing Authority | 10/31/2022
Newark Housing Authority | 10/26/2022
Jacksonville Housing Authority | 11/21/2022
Tampa Housing Authority | 12/21/2022
Sarasota Housing Authority | 11/2/2022
West Palm Beach Housing Authority | 10/6/2022
Housing Authority of the City of Fort Lauderdale | 10/31/2022
Housing Authority of the City of Cocoa | 10/26/2022
Ocala Housing Authority | 12/5/2022
Housing Authority of the City of Fort Pierce | 11/28/2022
Housing Authority of the City of Fort Myers | 11/28/2022
North Central Florida Regional County | 12/9/2022
Punta Gorda Housing Authority | 12/9/2022
Pinellas County Housing Authority | 10/6/2022
Clearwater Housing Authority | 12/20/2022
Broward County Housing Authority | 12/20/2022
Pasco County Housing Authority | 10/25/2022
Manatee County Housing Authority | 10/15/2022
Walton County Housing Authority | 12/8/2022
Hendry County Housing Authority | 12/14/2022
Citrus County Housing Services | 10/5/2022
Housing Authority of the City of Augusta | 11/4/2022
Housing Authority of Savannah | 12/22/2022
Housing Authority of the City of Brunswick | 11/29/2022
Housing Authority of the City of Decatur | 11/28/2022
Housing Authority of the City of Newnan | 10/16/2022
City And County of Honolulu | 10/17/2022
Hawaii Public Housing Authority | 10/17/2022
Davenport Housing Commission | 12/9/2022
Southern Iowa Regional Housing Authority | 10/15/2022
Northwest Iowa Regional Housing Authority | 10/15/2022
Boise City Housing Authority | 11/10/2022
Southwestern Idaho Cooperative Housing Authority | 11/15/2022
Ada County Housing Authority | 11/10/2022
Idaho Housing and Finance Association | 11/15/2022
Peoria Housing Authority | 11/18/2022
Housing Authority of Elgin | 10/27/2022
Housing Authority of East Peoria | 12/9/2022
Fort Wayne Housing Authority | 12/21/2022
Delaware County Housing Authority | 10/26/2022
Housing Authority of the City of Muncie | 10/27/2022
Housing Authority of the City of Anderson | 10/19/2022
Kokomo Housing Authority | 10/4/2022
Housing Authority of the City of Richmond | 10/26/2022
Housing Authority of the City of Gary | 10/31/2022
Housing Authority of South Bend | 10/4/2022
Housing Authority of the City of Michigan City | 11/18/2022
Housing Authority of the City of Mishawaka | 12/8/2022
Housing Authority of the City of Bloomington | 10/16/2022
Housing Authority of the City of Elkhart | 11/15/2022
Housing Authority of the City of East Chicago | 10/31/2022
Brazil Housing Authority | 10/15/2022
Housing Authority of the City of Warsaw | 12/14/2022
Housing Authority of the City of Decatur | 12/21/2022
Knox County Housing Authority | 11/30/2022
Housing Authority of the City of Lafayette | 10/27/2022
Housing Authority of the City of Elwood | 12/15/2022
Housing Authority of the City of Logansport | 12/14/2022
Housing Authority of the County of St. Joseph | 11/10/2022
Wichita Housing Authority | 10/6/2022
Atchison Housing Authority | 12/27/2022
Salina Housing Authority | 10/15/2022
Great Bend Housing Authority | 11/2/2022
Crawford County | 10/16/2022
Ford County Housing Authority | 12/21/2022
Housing Authority of Somerset | 10/27/2022
Housing Authority of Pikeville | 12/22/2022
Housing Authority of the City of Kenner | 10/15/2022
St. John the Baptist Parish Housing Authority | 12/9/2022
New Bedford Housing Authority | 10/4/2022
Chelsea Housing Authority | 11/14/2022
Northampton Housing Authority | 11/28/2022
Springfield Housing Authority | 12/28/2022
Arlington Housing Authority | 12/23/2022
Franklin County Regional Housing Authority | 10/4/2022
Greenfield Housing Authority | 10/17/2022
Department of Housing & Community Development | 10/14/2022
Housing Opportunities Commission of Montgomery County | 12/14/2022
Hagerstown Housing Authority | 11/28/2022
Housing Authority of St. Mary's County | 12/28/2022
Housing Authority of Washington County | 10/4/2022
Carroll County Housing and Community Development | 12/15/2022
Lewiston Housing Authority | 11/1/2022
Brunswick Housing Authority | 10/15/2022
Bath Housing Authority | 10/16/2022
Ellsworth Housing Authority | 11/3/2022
Maine State Housing Authority | 10/4/2022
Detroit Housing Commission | 11/28/2022
Pontiac Housing Commission | 12/22/2022
Saginaw Housing Commission | 12/12/2022
Ann Arbor Housing Commission | 10/15/2022
Grand Rapids Housing Commission | 11/18/2022
Lapeer Housing Commission | 10/6/2022
Red Wing Housing and Redevelopment Authority | 10/26/2022
St. Louis Housing Authority | 10/25/2022
Housing Authority of St. Louis County | 10/25/2022
Housing Authority of the City of St. Charles | 12/14/2022
Housing Authority of the City of Jefferson | 11/8/2022
Independence Housing Authority | 10/15/2022
Housing Authority of the City of Sedalia | 11/15/2022
Housing Authority of the City of Joplin | 11/14/2022
Boone County Public Housing Agency | 12/23/2022
Lincoln County Public Housing Agency | 10/26/2022
St. Francois County Public Housing Agency | 11/2/2022
Franklin County Public Housing Agency | 11/28/2022
Liberty Housing Authority | 11/30/2022
Howell County Public Housing Agency | 10/17/2022
Housing Assistance Program of St. Charles County | 10/26/2022
The Housing Authority of the City of Biloxi | 11/14/2022
Housing Authority of Billings | 11/2/2022
Great Falls Housing Authority | 12/14/2022
Housing Authority of Butte | 12/14/2022
Helena Housing Authority | 10/19/2022
Missoula Housing Authority | 10/4/2022
Montana Department of Commerce | 10/14/2022
Housing Authority of the City of Wilmington | 11/3/2022
Housing Authority of the City of Raleigh | 12/20/2022
Housing Authority of the City of Kinston | 11/2/2022
Housing Authority of the City of Asheville | 11/2/2022
Housing Authority of the City of Winston-Salem | 10/4/2022
Rocky Mount Housing Authority | 12/14/2022
Bladenboro Housing Authority | 11/28/2022
Rowan County Housing Authority | 12/15/2022
Columbus County Public Housing Agency | 12/12/2022
Coastal Community Action, Inc | 12/23/2022
Four Square Community Action, Inc | 12/6/2022
Western Piedmont Council of Governments | 10/4/2022
Housing Authority of Stutsman County | 10/15/2022
McHenry/Pierce County Housing Authority | 12/15/2022
Portsmouth Housing Authority | 10/16/2022
Laconia Housing & Redevelopment Authority | 10/31/2022
Lebanon Housing Authority | 10/24/2022
Harbor Homes, Inc | 10/16/2022
New Hampshire Housing Finance Agency | 10/19/2022
Long Branch Housing Authority | 12/14/2022
Woodbridge Housing Authority | 10/26/2022
Red Bank Housing Authority | 11/28/2022
Neptune Housing Authority | 12/6/2022
East Orange Housing Authority | 11/22/2022
Glassboro Housing Authority | 12/21/2022
Housing Authority of the Township of Lakewood | 10/15/2022
Berkeley Housing Authority | 11/8/2022
Gloucester County Housing Authority | 12/21/2022
City of Albuquerque Housing Authority | 12/14/2022
Housing Authority of the County of Socorro | 12/12/2022
Northern Regional Housing Authority | 12/12/2022
Nevada Rural Housing Authority | 11/28/2022
Rochester Housing Authority | 11/3/2022
Monticello Housing Authority | 12/14/2022
Town of Islip Housing Authority | 11/18/2022
North Hempstead Housing Authority | 11/15/2022
New Rochelle Housing Authority | 12/23/2022
Village of Ossining Section 8 Program | 11/8/2022
City of New Rochelle Housing Authority | 10/17/2022
City of Poughkeepsie | 10/27/2022
City of Niagara Falls | 10/25/2022
Village of Fairport | 11/28/2022
NYS Housing Trust Fund Corporation | 10/17/2022
Cuyahoga Metropolitan Housing Authority | 10/4/2022
Dayton Metropolitan Housing Authority | 12/14/2022
Lucas Metropolitan Housing Authority | 11/28/2022
Zanesville Metropolitan Housing Authority | 12/20/2022
Portsmouth Metropolitan Housing Authority | 12/23/2022
Mansfield Metropolitan Housing Authority | 12/5/2022
Stark Metropolitan Housing Authority | 12/5/2022
Lake Metropolitan Housing Authority | 11/30/2022
Columbiana Metropolitan Housing Authority | 11/8/2022
Ashtabula Metropolitan Housing Authority | 11/28/2022
Huron Metropolitan Housing Authority | 12/5/2022
Perry County Metropolitan Housing Authority | 11/8/2022
Crawford Metropolitan Housing Authority | 12/5/2022
Allen Metropolitan Housing Authority | 12/8/2022
Adams Metropolitan Housing Authority | 11/14/2022
Monroe Metropolitan Housing Authority | 12/14/2022
Pike Metropolitan Housing Authority | 10/25/2022
Miami Metropolitan Housing Authority | 12/14/2022
Seneca Metropolitan Housing Authority | 12/5/2022
Marion Metropolitan Housing Authority | 11/28/2022
Delaware Metropolitan Housing Authority | 11/28/2022
Housing Authority of the City of Broken Bow | 11/28/2022
Housing Authority of Jackson County | 10/4/2022
Housing Authority of Yamhill County | 10/4/2022
Coos-Curry Housing Authority | 11/21/2022
Mid-Columbia Housing Authority | 12/15/2022
Housing Authority of Malheur County | 10/19/2022
Northwest Oregon Housing Authority | 11/15/2022
Allentown Housing Authority | 12/20/2022
Chester Housing Authority | 10/14/2022
Bethlehem Housing Authority | 10/6/2022
Montgomery County Housing Authority | 10/6/2022
Westmoreland County Housing Authority | 11/28/2022
Mercer County Housing Authority | 12/5/2022
Housing Authority County of Delaware | 11/14/2022
The Housing Authority of the City of Hazleton | 10/15/2022
Wilkes Barre Housing Authority | 11/8/2022
Housing Authority of the County of Lebanon | 11/14/2022
Housing Authority of the County of Luzerne | 12/5/2022
Housing Authority of the County of Berks | 10/15/2022
The Housing Authority of the City of Newport | 10/24/2022
East Providence Housing Authority | 10/4/2022
Johnston Housing Authority | 11/2/2022
Cumberland Housing Authority | 10/27/2022
West Warwick Housing Authority | 12/28/2022
Coventry Housing Authority | 11/3/2022
Smithfield Housing Authority | 10/4/2022
Warren Housing Authority | 11/28/2022
Rhode Island Housing | 10/26/2022
Puerto Rico Public Housing Authority | 12/5/2022
Municipality of Aguadilla | 12/14/2022
Municipality of Fajardo | 12/5/2022
Municipality of Gurabo | 12/12/2022
Municipality of Las Marias | 11/2/2022
Municipality of Cidra | 11/21/2022
Housing Authority of Darlington | 10/17/2022
Housing Authority of Aiken | 12/14/2022
Housing Authority of Rock Hill | 12/12/2022
Housing Authority of Beaufort | 10/4/2022
Housing Authority of Florence | 12/14/2022
Housing Authority of Greenwood | 11/28/2022
Housing Authority of Myrtle Beach | 11/14/2022
Housing Authority of Anderson | 11/14/2022
Madison Housing and Redevelopment Commission | 10/26/2022
Sioux Falls Housing and Redevelopment Commission | 12/20/2022
Pierre Housing & Redevelopment Commission | 11/2/2022
Milbank Housing & Redevelopment Commission | 11/14/2022
Canton Housing & Redevelopment Commission | 11/21/2022
Watertown Housing and Redevelopment Commission | 10/5/2022
Meade County Housing and Redevelopment Commission | 10/17/2022
Lawrence County Housing & Redevelopment Commission | 10/17/2022
Brookings Housing & Redevelopment Commission | 11/14/2022
Mobridge Housing & Redevelopment Commission | 11/14/2022
Butte County Housing Authority | 10/17/2022
Memphis Housing Authority | 10/31/2022
Chattanooga Housing Authority | 11/1/2022
Kingsport Housing and Redevelopment Authority | 12/21/2022
Lafollette Housing Authority | 12/5/2022
Morristown Housing Authority | 10/25/2022
Dayton Housing Authority | 10/31/2022
Bristol Housing Authority | 10/31/2022
Oak Ridge Housing Authority | 10/15/2022
Tennessee Housing Development Agency | 10/30/2022
Brownsville Housing Authority | 11/8/2022
Housing Authority of Lubbock | 11/16/2022
Housing Authority of Port Arthur | 11/1/2022
Housing Authority of the City of Brenham | 10/25/2022
Burnet Housing Authority | 11/4/2022
Garland Housing Authority | 10/4/2022
Housing Authority of Anthony | 11/4/2022
Terrell Housing Authority | 11/15/2022
Ark-Tex Council of Governments Housing Authority | 12/22/2022
Deep East Texas Council of Governments | 12/6/2022
Housing Authority of the City of Provo | 11/22/2022
Housing Authority of Utah County | 10/19/2022
Housing Authority of Southeastern Utah | 11/28/2022
Logan City Housing Authority | 10/31/2022
Roosevelt City Housing Authority | 10/4/2022
Bear River Regional Housing Authority | 10/31/2022
Newport News Redevelopment & Housing Authority | 10/24/2022
Norfolk Redevelopment & Housing Authority | 10/15/2022
Danville Redevelopment & Housing Authority | 10/19/2022
Roanoke Redevelopment & Housing Authority | 10/4/2022
Lynchburg Redevelopment & Housing Authority | 10/14/2022
Arlington County Dept of Human Services | 11/28/2022
Vermont State Housing Authority | 10/6/2022
Housing Authority of the City of Bremerton | 10/15/2022
Peninsula Housing Authority | 10/4/2022
Housing Authority City of Longview | 10/25/2022
Housing Authority City of Kennewick | 10/5/2022
Columbia Gorge Housing Authority | 12/15/2022
Housing Authority of Asotin County | 11/15/2022
Housing Authority of Grays Harbor County | 10/6/2022
Housing Authority City of Pasco and Franklin County | 12/20/2022
Housing Authority City of Bellingham | 10/4/2022
Kitsap County Consolidated Housing Authority | 10/17/2022
Housing Authority of the City of Spokane | 12/8/2022
Housing Authority of the City of Walla Walla | 10/24/2022
Housing Authority of Chelan Co and the City of Wenatchee | 12/6/2022
Housing Authority of Okanogan County | 10/26/2022
Housing Authority of the City of Milwaukee | 12/20/2022
Wisconsin Rapids Housing Authority | 12/20/2022
Rhinelander Housing Authority | 10/19/2022
Brown County Housing Authority | 10/31/2022
Eau Claire County Housing Authority | 11/29/2022
Kenosha Housing Authority | 10/15/2022
Housing Authority of Winnebago County | 10/15/2022
Ashland County Housing Authority | 10/16/2022
Barron County Housing Authority | 12/5/2022
Chippewa County Housing Authority | 11/15/2022
Housing Authority of the City of Fairmont | 10/5/2022
Grant County Housing Authority | 10/19/2022
Housing Authority of the County of Jackson | 10/17/2022
Housing Authority of the City of Cheyenne | 10/4/2022

[FR Doc. 2023-14304 Filed 7-7-23; 8:45 am]

BILLING CODE P